ENVIRONMENTAL PROTECTION AGENCY

[Docket ID Numbers EPA-HQ-OECA-2011-0203-0210, 0216-0220, 0222-0226, 0228-0236, 0238-0246, 0248-0275; FRL-9302-6]

Agency Information Collection Activities: Request for Comments on Sixty-Four Proposed Information Collection Requests (ICRs)

AGENCY: Environmental Protection Agency (EPA)

ACTION: Notice

SUMMARY: In compliance with the Paperwork Reduction Act (44 U.S.C. 3501 et seq.), this document announces that EPA is planning to submit the following sixty-four existing, approved, continuing Information Collection Requests (ICR) to the Office of Management and Budget (OMB) for the purpose of renewing the ICRs. Before submitting the ICRs to OMB for review and approval, EPA is soliciting comments on specific aspects of the information collections as described under SUPPLEMENTARY INFORMATION.

DATES: Comments must be submitted on or before July 8, 2011.

ADDRESSES: Comments may be submitted electronically, by mail, or through hand delivery/courier service. Follow the detailed instructions as provided under SUPPLEMENTARY INFORMATION, section A.

FOR FURTHER INFORMATION CONTACT: The contact individuals for each ICR are listed under SUPPLEMENTARY INFORMATION, section II. C.

SUPPLEMENTARY INFORMATION:

A. How can I access the docket and/or submit comments?

(1) Docket Access Instructions

EPA has established a public docket for the ICRs listed in the SUPPLEMENTARY INFORMATION, section II. B. The docket is available for online viewing at http://www.regulations.gov, or in person viewing at the Enforcement and Compliance Docket and Information Center (ECDIC), in the EPA Docket Center (EPA/DC), EPA West, Room 3334, 1301 Constitution Avenue, NW., Washington, DC. The EPA/DC Public Reading Room is open from 8 a.m. to 4:30 p.m., Monday through Friday, excluding legal holidays. The telephone number for the Reading Room is (202)566-1744, and the telephone number for the Enforcement and Compliance Docket and Information Center (ECDIC) docket is (202)566-1752.

Use http://www.regulations.gov to obtain a copy of the draft collection of information, submit or view public comments, access the index listing of the contents of the docket, and to access those documents in the public docket that are available electronically. When in the system, select “search,” then key in the docket ID number identified in this document.

(2) Instructions for Submitting Comments

Submit your comments by one of the following methods:

(a) Electronic Submission: Access http://www.regulations.gov and follow the on-line instructions for submitting comments.

(b) E-mail: docket.oeca@epa.gov.

(c) Fax: (202) 566-1511(d) Mail: Enforcement and Compliance Docket and Information Center (ECDIC), Environmental Protection Agency, EPA Docket Center (EPA/DC), Mail code: 2201T, 1200 Pennsylvania Avenue, NW., Washington, DC 20460.

(d) Hand Delivery: Enforcement and Compliance Docket and Information Center (ECDIC), Environmental Protection Agency, EPA Docket Center (EPA/DC), EPA West, Room 3334, 1301 Constitution Avenue, NW., Washington, DC. The EPA Docket Center is open from 8:30 a.m. to 4:30 p.m., Monday through Friday, excluding legal holidays. Deliveries are only accepted during the Docket Center's normal hours of operation, and special arrangements should be made for deliveries of boxed information.

Direct your comments to the specific docket listed in SUPPLEMENTARY INFORMATION, section II. B, and reference the OMB Control Number for the ICR. It is EPA policy that all comments received will be included in the public docket without change and may be made available online at http://www.regulations.gov, including any personal information provided, unless the comment includes information claimed to be Confidential Business Information (CBI) or other information whose disclosure is restricted by statute. Do not submit information that you consider to be CBI or otherwise protected through www.regulations.gov or e-mail. The http://www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about the EPA public docket, visit the EPA Docket Center homepage at http://www.epa.gov/epahome/dockets.htm.

B. What information is EPA particularly interested in?

Pursuant to section 3506(c)(2)(A) of the Paperwork Reduction Act (PRA), EPA is soliciting comments and information to enable it to:

(1) Evaluate whether the proposed collections of information are necessary for the proper performance of the functions of the Agency, including whether the information will have practical utility.

(2) Evaluate the accuracy of the Agency's estimates of the burdens of the proposed collections of information.

(3) Enhance the quality, utility, and clarity of the information to be collected.

(4) Minimize the burden of the collections of information on those who are to respond, including through the use of appropriate automated or electronic collection technologies, or other forms of information technology, e.g., permitting electronic submission of responses.

C. What should I consider when I prepare my comments for EPA?

You may find the following suggestions helpful for preparing comments:

(1) Explain your views as clearly as possible and provide specific examples.

(2) Describe any assumptions that you used.

(3) Provide copies of any technical information and/or data you used that support your views.

(4) If you estimate potential burden or costs, explain how you arrived at the estimate that you provide.

(5) Offer alternative ways to improve the collection activity.

(6) Make sure to submit your comments by the deadline identified under DATES.

(7) To ensure proper receipt by EPA, be sure to identify the docket ID number assigned to this action in the subject line on the first page of your response. You may also provide the name, date, and Federal Register citation.

ICRs To Be Renewed

A. For All ICRs

The Agency computed the burden for each of the recordkeeping and reporting requirements applicable to the industry for the currently approved ICRs listed in this notice. Where applicable, the Agency identified specific tasks and made assumptions, while being consistent with the concept of the PRA.

Burden means the total time, effort, or financial resources expended by persons to generate, maintain, retain, or disclose or provide information to or for a Federal agency. This includes the time needed to review instructions to; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The listed ICRs address Clean Air Act information collection requirements in standards (i.e., regulations) which have mandatory recordkeeping and reporting requirements. Records collected under the New Source Performance Standards (NSPS) must be retained by the owner or operator for at least two years and the records collected under the National Emission Standards for Hazardous Air Pollutants (NESHAP) must be retained by the owner or operator for at least five years. In general, the required collections consist of emissions data and other information deemed not to be private.

In the absence of such information collection requirements, enforcement personnel would be unable to determine whether the standards are being met on a continuous basis as required by the Clean Air Act.

An Agency may not conduct or sponsor, and a person is not required to respond to, a collection of information, unless the Agency displays a currently valid OMB control number. The OMB control numbers for the EPA regulations under Title 40 of the Code of Federal Regulations are published in the Federal Register, or on the related collection instrument or form. The display of OMB control numbers for certain EPA regulations is consolidated at 40 CFR part 9.

B. What information collection activity or ICR does this apply to?

In compliance with the Paperwork Reduction Act (44 U.S.C. 3501 et seq.), this notice announces that EPA is planning to submit sixty-four proposed, continuing Information Collection Requests (ICR) to the Office of Management and Budget (OMB):

(1) Docket ID Number: EPA-HQ-OECA-2011-0203.

Title: NESHAP for Engine Test Cells/Stands (40 CFR Part 63, Subpart PPPPP).

ICR Numbers: EPA ICR Number 2066.05, OMB Control Number 2060-0483.

ICR Status: This ICR is scheduled to expire on November 30, 2011.

(2) Docket ID Number: EPA-HQ-OECA-2011-0204.

Title: NESHAP—Reporting and Recordkeeping Requirements for the Friction Materials Manufacturing Facilities (40 CFR Part 63, Subpart QQQQQ).

ICR Numbers: EPA ICR Number 2025.05, OMB Control Number 2060-0481.

ICR Status: This ICR is scheduled to expire on November 30, 2011.

(3) Docket ID Number: EPA-HQ-OECA-2011-0205.

Title: NESHAP for Primary Copper Smelters (40 CFR Part 63, Subpart QQQ).

ICR Numbers: EPA ICR Number 1850.06, OMB Control Number 2060-0476.

ICR Status: This ICR is scheduled to expire on November 30, 2011.

(4) Docket ID Number: EPA-HQ-OECA-2011-0206.

Title: NESHAP for Leather Finishing Operations (40 CFR Part 63, Subpart TTTT)

ICR Numbers: EPA ICR Number 1985.05, OMB Control Number 2060-0478.

ICR Status: This ICR is scheduled to expire on November 30, 2011.

(5) Docket ID Number: EPA-HQ-OECA-2011-0207.

Title: NESHAP for Pesticide Active Ingredient Production (40 CFR Part 63, Subpart MMM).

ICR Numbers: EPA ICR Number 1807.05, OMB Control Number 2060-0370.

ICR Status: This ICR is scheduled to expire on December 31, 2011.

(6) Docket ID Number: EPA-HQ-OECA-2011-0208.

Title: NESHAP for Pulp and Paper Production (40 CFR Part 63, Subpart S).

ICR Numbers: EPA ICR Number 1657.07, OMB Control Number 2060-0387.

ICR Status: This ICR is scheduled to expire on December 31, 2011.

(7) Docket ID Number: EPA-HQ-OECA-2011-0209.

Title: NESHAP for Chemical Recovery Combustion Sources at Kraft, Soda, Sulfite, and Stand-Alone Semichemical Pulp Mills (40 CFR Part 63, Subpart MM).

ICR Numbers: EPA ICR Number 1805.06, OMB Control Number 2060-0377.

ICR Status: This ICR is scheduled to expire on December 31, 2011.

(8) Docket ID Number: EPA-HQ-OECA-2011-0210.

Title: NSPS for Municipal Waste Combustors (40 CFR Part 60, Subparts Ea and Eb).

ICR Numbers: EPA ICR Number 1506.12, OMB Control Number 2060-0210.

ICR Status: This ICR is scheduled to expire on December 31, 2011.

(9) Docket ID Number: EPA-HQ-OECA-2011-0216.

Title: NESHAP for Cellulose Products Manufacturing (40 CFR Part 63, Subpart UUUU.

ICR Numbers: EPA ICR Number 1974.06, OMB Control Number 2060-0488.

ICR Status: This ICR is scheduled to expire on December 31, 2011.

(10) Docket ID Number: EPA-HQ-OECA-2011-0217.

Title: NSPS for Sulfuric Acid Plants (40 CFR Part 60, Subpart H).

ICR Numbers: EPA ICR Number 1057.12, OMB Control Number 2060-0041.

ICR Status: This ICR is scheduled to expire on December 31, 2011.

(11) Docket ID Number: EPA-HQ-OECA-2011-0218.

Title: NSPS for Metallic Mineral Processing Plants (40 CFR Part 60, Subpart LL).

ICR Numbers: EPA ICR Number 0982.10, OMB Control Number 2060-0016.

ICR Status: This ICR is scheduled to expire on December 31, 2011.

(12) Docket ID Number: EPA-HQ-OECA-2011-0219.

Title: NSPS for Primary and Secondary Emissions from Basic Oxygen Furnaces (40 CFR Part 60, Subparts N and Na).

ICR Numbers: EPA ICR Number 1069.10, OMB Control Number 2060-0029.

ICR Status: This ICR is scheduled to expire on December 31, 2011.

(13) Docket ID Number: EPA-HQ-OECA-2011-0220.

Title: NSPS for Glass Manufacturing Plants (40 CFR Part 60, Subpart CC).

ICR Numbers: EPA ICR Number 1131.10, OMB Control Number 2060-0054.

ICR Status: This ICR is scheduled to expire on December 31, 2011.

(14) Docket ID Number: EPA-HQ-OECA-2011-0222.

Title: NSPS for Petroleum Refineries (40 CFR Part 60, Subpart J).

ICR Numbers: EPA ICR Number 1054.11, OMB Control Number 2060-0022.

ICR Status: This ICR is scheduled to expire on December 31, 2011.

(15) Docket ID Number: EPA-HQ-OECA-2011-0223.

Title: NSPS for Bulk Gasoline Terminals (40 CFR Part 60, Subpart XX).

ICR Numbers: EPA ICR Number 0664.10, OMB Control Number 2060-0006.

ICR Status: This ICR is scheduled to expire on December 31, 2011.

(16) Docket ID Number: EPA-HQ-OECA-2011-0224.

Title: NSPS for Calciners and Dryers in Mineral Industries (40 CFR Part 60, Subpart UUU).

ICR Numbers: EPA ICR Number 0746.08, OMB Control Number 2060-0251.

ICR Status: This ICR is scheduled to expire on December 31, 2011.

(17) Docket ID Number: EPA-HQ-OECA-2011-0225.

Title: NSPS for Municipal Solid Waste Landfills (40 CFR Part 60, Subpart WWW).

ICR Numbers: EPA ICR Number 1557.08, OMB Control Number 2060-0220.

ICR Status: This ICR is scheduled to expire on December 31, 2011.

(18) Docket ID Number: EPA-HQ-OECA-2011-0226.

Title: NSPS for Metal Coil Surface Coating (40 CFR Part 60, Subpart TT).

ICR Numbers: EPA ICR Number 0660.11, OMB Control Number 2060-0107.

ICR Status: This ICR is scheduled to expire on December 31, 2011.

(19) Docket ID Number: EPA-HQ-OECA-2011-0228.

Title: NSPS for Petroleum Refineries (40 CFR Part 60, Subpart Ja).

ICR Numbers: EPA ICR Number 2263.03, OMB Control Number 2060-0602.

ICR Status: This ICR is scheduled to expire on December 31, 2011.

(20) Docket ID Number: EPA-HQ-OECA-2011-0229.

Title: NESHAP for Iron and Steel Foundries Area Sources (40 CFR Part 63, Subpart ZZZZZ).

ICR Numbers: EPA ICR Number 2267.03, OMB Control Number 2060-0605.

ICR Status: This ICR is scheduled to expire on December 31, 2011.

(21) Docket ID Number: EPA-HQ-OECA-2011-0230.

Title: NESHAP for Source Categories: Gasoline Distribution Bulk Terminals, Bulk Plants, Pipeline Facilities and Gasoline Dispensing Facilities (40 CFR Part 63, Subparts BBBBBB and CCCCCC).

ICR Numbers: EPA ICR Number 2237.03, OMB Control Number 2060-0620.

ICR Status: This ICR is scheduled to expire on December 31, 2011.

(22) Docket ID Number: EPA-HQ-OECA-2011-0231.

Title: NESHAP for Ferroalloys Production: Ferromanganese and Silicomanganese (40 CFR Part 63, Subpart XXX).

ICR Numbers: EPA ICR Number 1831.05, OMB Control Number 2060-0391.

ICR Status: This ICR is scheduled to expire on January 31, 2012.

(23) Docket ID Number: EPA-HQ-OECA-2011-0232.

Title: NESHAP for Metal Coil Surface Coating Plants (40 CFR Part 63, Subpart SSSS).

ICR Numbers: EPA ICR Number 1957.06, OMB Control Number 2060-0487.

ICR Status: This ICR is scheduled to expire on January 31, 2012.

(24) Docket ID Number: EPA-HQ-OECA-2011-0233.

Title: NESHAP for Plating and Polishing Area Sources (40 CFR Part 63, Subpart WWWWWW).

ICR Numbers: EPA ICR Number 2294.03, OMB Control Number 2060-0622.

ICR Status: This ICR is scheduled to expire on January 31, 2012.

(25) Docket ID Number: EPA-HQ-OECA-2011-0234.

Title: NESHAP for Petroleum Refineries (40 CFR Part 63, Subpart CC).

ICR Numbers: EPA ICR Number 1692.07, OMB Control Number 2060-0340.

ICR Status: This ICR is scheduled to expire on February 29, 2012.

(26) Docket ID Number: EPA-HQ-OECA-2011-0235.

Title: NESHAP for Source Categories: Generic Maximum Achievable Control Technology Standards for Carbon Black, Ethylene, Cyanide and Spandex (40 CFR Part 63, Subpart YY).

ICR Numbers: EPA ICR Number 1983.06, OMB Control Number 2060-0489.

ICR Status: This ICR is scheduled to expire on March 31, 2012.

(27) Docket ID Number: EPA-HQ-OECA-2011-0236.

Title: NESHAP for Ferroalloys Production Area Sources (40 CFR Part 63, Subpart YYYYYY).

ICR Numbers: EPA ICR Number 2303.03, OMB Control Number 2060-0625.

ICR Status: This ICR is scheduled to expire on March 31, 2012.

(28) Docket ID Number: EPA-HQ-OECA-2011-0238.

Title: NESHAP for Natural Gas Transmission and Storage Facilities (40 CFR Part 63, Subpart HHH).

ICR Numbers: EPA ICR Number 1789.07, OMB Control Number 2060-0418.

ICR Status: This ICR is scheduled to expire on April 30, 2012.

(29) Docket ID Number: EPA-HQ-OECA-2011-0239.

Title: NSPS for Grain Elevators (40 CFR Part 60, Subpart DD).

ICR Numbers: EPA ICR Number 1130.10, OMB Control Number 2060-0082.

ICR Status: This ICR is scheduled to expire on April 30, 2012.

(30) Docket ID Number: EPA-HQ-OECA-2011-0240.

Title: NSPS for Lime Manufacturing (40 CFR Part 60, Subpart HH).

ICR Numbers: EPA ICR Number 1167.10, OMB Control Number 2060-0063.

ICR Status: This ICR is scheduled to expire on April 30, 2012.

(31) Docket ID Number: EPA-HQ-OECA-2011-0241.

Title: NSPS for Hot Mix Asphalt Facilities (40 CFR Part 60, Subpart I).

ICR Numbers: EPA ICR Number 1127.10, OMB Control Number 2060-0083.

ICR Status: This ICR is scheduled to expire on April 30, 2012.

(32) Docket ID Number: EPA-HQ-OECA-2011-0242.

Title: NSPS for Kraft Pulp Mills (40 CFR Part 60, Subpart BB).

ICR Numbers: EPA ICR Number 1055.10, OMB Control Number 2060-0021.

ICR Status: This ICR is scheduled to expire on April 30, 2012.

(33) Docket ID Number: EPA-HQ-OECA-2011-0243.

Title: NESHAP for Coke Oven Batteries (40 CFR Part 63, Subpart L).

ICR Numbers: EPA ICR Number 1362.09, OMB Control Number 2060-0253.

ICR Status: This ICR is scheduled to expire on May 31, 2012.

(34) Docket ID Number: EPA-HQ-OECA-2011-0244.

Title: NESHAP for Polyether Polyols Production (40 CFR Part 63, Subpart PPP).

ICR Numbers: EPA ICR Number 1811.07, OMB Control Number 2060-0415.

ICR Status: This ICR is scheduled to expire on May 31, 2012.

(35) Docket ID Number: EPA-HQ-OECA-2011-0245.

Title: NESHAP for Inorganic Arsenic Emissions from Glass Manufacturing Plants (40 CFR Part 61, Subpart N).

ICR Numbers: EPA ICR Number 1081.10, OMB Control Number 2060-0043.

ICR Status: This ICR is scheduled to expire on May 31, 2012.

(36) Docket ID Number: EPA-HQ-OECA-2011-0246.

Title: NESHAP for Primary Lead Smelters (40 CFR Part 63, Subpart TTT).

ICR Numbers: EPA ICR Number 1856.08, OMB Control Number 2060-0414.

ICR Status: This ICR is scheduled to expire on May 31, 2012.

(37) Docket ID Number: EPA-HQ-OECA-2011-0248.

Title: NESHAP for Steel Pickling, HCL Process Facilities and Hydrochloric Acid Regeneration Plants (40 CFR Part 63, Subpart CCC).

ICR Numbers: EPA ICR Number 1821.07, OMB Control Number 2060-0419.

ICR Status: This ICR is scheduled to expire on May 31, 2012.

(38) Docket ID Number: EPA-HQ-OECA-2011-0249.

Title: NSPS for Other Solid Waste Incineration Units (40 CFR Part 60, Subpart EEEE).

ICR Numbers: EPA ICR Number 2163.04, OMB Control Number 2060-0563.

ICR Status: This ICR is scheduled to expire on May 31, 2012.

(39) Docket ID Number: EPA-HQ-OECA-2011-0250.

Title: NESHAP for Wet-Formed Fiberglass Mat Production (40 CFR Part 63, Subpart HHHH).

ICR Numbers: EPA ICR Number 1964.05, OMB Control Number 2060-0496.

ICR Status: This ICR is scheduled to expire on June 30, 2012.

(40) Docket ID Number: EPA-HQ-OECA-2011-0251.

Title: NESHAP for Source Categories: Generic Maximum Achievable Control Technology Standards for Acetal Resin; Acrylic and Modacrylic Fiber; Hydrogen Fluoride and Polycarbonate Production (40 CFR Part 63, Subpart YY).

ICR Numbers: EPA ICR Number 1871.06, OMB Control Number 2060-0420.

ICR Status: This ICR is scheduled to expire on June 30, 2012.

(41) Docket ID Number: EPA-HQ-OECA-2011-0252.

Title: NESHAP for Asbestos (40 CFR Part 61, Subpart M).

ICR Numbers: EPA ICR Number 0111.13, OMB Control Number 2060-0101.

ICR Status: This ICR is scheduled to expire on June 30, 2012.

(42) Docket ID Number: EPA-HQ-OECA-2011-0253.

Title: NSPS for Nonmetallic Mineral Processing (40 CFR Part 60, Subpart OOO).

ICR Numbers: EPA ICR Number 1084.12, OMB Control Number 2060-0050.

ICR Status: This ICR is scheduled to expire on June 30, 2012.

(43) Docket ID Number: EPA-HQ-OECA-2011-0254.

Title: NESHAP for Miscellaneous Metal Parts and Products (40 CFR Part 63, Subpart MMMM).

ICR Numbers: EPA ICR Number 2056.04, OMB Control Number 2060-0486.

ICR Status: This ICR is scheduled to expire on July 31, 2012.

(44) Docket ID Number: EPA-HQ-OECA-2011-0255.

Title: NESHAP for Flexible Polyurethane Foam Fabrication (40 CFR Part 63, Subpart MMMMM).

ICR Numbers: EPA ICR Number 2027.05, OMB Control Number 2060-0516.

ICR Status: This ICR is scheduled to expire on July 31, 2012.

(45) Docket ID Number: EPA-HQ-OECA-2011-0256.

Title: Emission Guidelines for Existing Other Solid Waste Incineration Units (40 CFR Part 60, Subpart FFFF).

ICR Numbers: EPA ICR Number 2164.04, OMB Control Number 2060-0562.

ICR Status: This ICR is scheduled to expire on July 31, 2012.

(46) Docket ID Number: EPA-HQ-OECA-2011-0257.

Title: NESHAP for Reinforced Plastic Composites Production (40 CFR Part 63, Subpart WWWW).

ICR Numbers: EPA ICR Number 1976.05, OMB Control Number 2060-0509.

ICR Status: This ICR is scheduled to expire on July 31, 2012.

(47) Docket ID Number: EPA-HQ-OECA-2011-0258.

Title: NESHAP for Paper and Other Web Coating (40 CFR Part 63, Subpart JJJJ).

ICR Numbers: EPA ICR Number 1951.05, OMB Control Number 2060-0511.

ICR Status: This ICR is scheduled to expire on July 31, 2012.

(48) Docket ID Number: EPA-HQ-OECA-2011-0259.

Title: NESHAP for the Surface Coating of Large Household and Commercial Appliances (40 CFR Part 63, Subpart NNNN).

ICR Numbers: EPA ICR Number 1954.05, OMB Control Number 2060-0457.

ICR Status: This ICR is scheduled to expire on July 31, 2012.

(49) Docket ID Number: EPA-HQ-OECA-2011-0260.

Title: NESHAP for Brick and Structural Clay Manufacturing (40 CFR Part 63, Subpart JJJJJ).

ICR Numbers: EPA ICR Number 2022.05, OMB Control Number 2060-0508.

ICR Status: This ICR is scheduled to expire on July 31, 2012.

(50) Docket ID Number: EPA-HQ-OECA-2011-0261.

Title: NESHAP for Refractory Products Manufacturing (40 CFR Part 63, Subpart SSSSS).

ICR Numbers: EPA ICR Number 2040.05, OMB Control Number 2060-0515.

ICR Status: This ICR is scheduled to expire on July 31, 2012.

(51) Docket ID Number: EPA-HQ-OECA-2011-0262.

Title: NESHAP for Semiconductor Manufacturing (40 CFR Part 63, Subpart BBBBB).

ICR Numbers: EPA ICR Number 2042.05, OMB Control Number 2060-0519.

ICR Status: This ICR is scheduled to expire on July 31, 2012.

(52) Docket ID Number: EPA-HQ-OECA-2011-0263.

Title: NESHAP for Printing, Coating and Dyeing of Fabrics and Other Textiles (40 CFR Part 63, Subpart OOOO).

ICR Numbers: EPA ICR Number 2071.05, OMB Control Number 2060-0522.

ICR Status: This ICR is scheduled to expire on August 31, 2012.

(53) Docket ID Number: EPA-HQ-OECA-2011-0264.

Title: NSPS for Stationary Source Compression Ignition Internal Combustion Engines (40 CFR Part 60, Subpart IIII).

ICR Numbers: EPA ICR Number 2196.04, OMB Control Number 2060-0590.

ICR Status: This ICR is scheduled to expire on August 31, 2012.

(54) Docket ID Number: EPA-HQ-OECA-2011-0265.

Title: NESHAP for Municipal Solid Waste Landfalls (40 CFR Part 63, Subpart AAAA).

ICR Numbers: EPA ICR Number 1938.05, OMB Control Number 2060-0505.

ICR Status: This ICR is scheduled to expire on August 31, 2012.

(55) Docket ID Number: EPA-HQ-OECA-2011-0266.

Title: NESHAP for Publicly Owned Treatment Works (40 CFR Part 63, Subpart VVV).

ICR Numbers: EPA ICR Number 1891.06, OMB Control Number 2060-0428.

ICR Status: This ICR is scheduled to expire on August 31, 2012.

(56) Docket ID Number: EPA-HQ-OECA-2011-0267.

Title: NESHAP for Asphalt Processing and Asphalt Roofing Manufacturing (40 CFR Part 63, Subpart LLLLL).

ICR Numbers: EPA ICR Number 2029.05, OMB Control Number 2060-0520.

ICR Status: This ICR is scheduled to expire on August 31, 2012.

(57) Docket ID Number: EPA-HQ-OECA-2011-0268.

Title: NESHAP for Benzene Waste Operations (40 CFR Part 61, Subpart FF).

ICR Numbers: EPA ICR Number 1541.10, OMB Control Number 2060-0183.

ICR Status: This ICR is scheduled to expire on August 31, 2012.

(58) Docket ID Number: EPA-HQ-OECA-2011-0269.

Title: NESHAP for Coke Oven: Pushing, Quenching, and Battery Stacks (40 CFR Part 63, Subpart CCCCC).

ICR Numbers: EPA ICR Number 1995.05, OMB Control Number 2060-0521.

ICR Status: This ICR is scheduled to expire on August 31, 2012.

(59) Docket ID Number: EPA-HQ-OECA-2011-0270.

Title: NSPS for Petroleum Dry Cleaners (40 CFR Part 60, Subpart JJJ).

ICR Numbers: EPA ICR Number 0997.10, OMB Control Number 2060-0079.

ICR Status: This ICR is scheduled to expire on August 31, 2012.

(60) Docket ID Number: EPA-HQ-OECA-2011-0271.

Title: NESHAP for Integrated Iron and Steel Manufacturing (40 CFR Part 63, Subpart FFFFF).

ICR Numbers: EPA ICR Number 2003.05, OMB Control Number 2060-0517.

ICR Status: This ICR is scheduled to expire on August 31, 2012.

(61) Docket ID Number: EPA-HQ-OECA-2011-0272.

Title: State and Federal Emission Guidelines for Hospital/Medical/Infectious Waste Incinerators (40 CFR Part 60, Subpart Ce, and 40 CFR Part 62, Subpart HHH).

ICR Numbers: EPA ICR Number 1899.07, OMB Control Number 2060-0422.

ICR Status: This ICR is scheduled to expire on September 30, 2012.

(62) Docket ID Number: EPA-HQ-OECA-2011-0273.

Title: NESHAP for Shipbuilding and Ship Repair Facilities—Surface Coating (40 CFR Part 63, Subpart II).

ICR Numbers: EPA ICR Number 1712.07, OMB Control Number 2060-0330.

ICR Status: This ICR is scheduled to expire on September 30, 2012.

(63) Docket ID Number: EPA-HQ-OECA-2011-0274.

Title: NESHAP for the Wood Building Products Surface Coating Industry (40 CFR Part 63, Subpart QQQQ).

ICR Numbers: EPA ICR Number 2034.05, OMB Control Number 2060-0510.

ICR Status: This ICR is scheduled to expire on September 30, 2012.

(64) Docket ID Number: EPA-HQ-OECA-2011-0275.

Title: NESHAP for Hydrochloric Acid Production (40 CFR Part 63, Subpart NNNNN).

ICR Numbers: EPA ICR Number 2032.07, OMB Control Number 2060-0529.

ICR Status: This ICR is scheduled to expire on September 30, 2012.

C. Contact Individuals for ICRs

(1) NESHAP for Engine Test Cells/Stands (40 CFR Part 63, Subpart PPPPP); Learia Williams of the Office of Compliance (202) 564-4113 or via e-mail to williams.learia@epa.gov; EPA ICR Number 2066.05, OMB Control Number 2060-0483; expiration date November 30, 2011.

(2) NESHAP—Reporting and Recordkeeping Requirements for the Friction Materials Manufacturing Facilities (40 CFR Part 63, Subpart QQQQQ); Learia Williams of the Office of Compliance (202) 564-4113 or via e-mail to williams.learia@epa.gov; EPA ICR Number 2025.05, OMB Control Number 2060-0481; expiration date November 30, 2011.

(3) NESHAP for Primary Copper Smelters (40 CFR Part 63, Subpart QQQ); Learia Williams of the Office of Compliance (202) 564-4113 or via e-mail to williams.learia@epa.gov; EPA ICR Number 1850.06, OMB Control Number 2060-0476; expiration date November 30, 2011.

(4) NESHAP for Leather Finishing Operations (40 CFR Part 63, Subpart TTTT); Learia Williams of the Office of Compliance (202) 564-4113 or via e-mail to williams.learia@epa.gov; EPA ICR Number 1985.05, OMB Control Number 2060-0478; expiration date November 30, 2011.

(5) NESHAP for Pesticide Active Ingredient Production (40 CFR Part 63, Subpart MMM); Learia Williams of the Office of Compliance (202) 564-4113 or via e-mail to williams.learia@epa.gov; EPA ICR Number 1807.05, OMB Control Number 2060-0370; expiration date December 31, 2011.

(6) NESHAP for Pulp and Paper Production (40 CFR Part 63, Subpart S); Learia Williams of the Office of Compliance (202) 564-4113 or via e-mail to williams.learia@epa.gov; EPA ICR Number 1657.07, OMB Control Number 2060-0387; expiration date December 31, 2011.

(7) NESHAP for Chemical Recovery Combustion Sources at Kraft, Soda, Sulfite, and Stand-Alone Semichemical Pulp Mills (40 CFR, Part 63, Subpart MM); Learia Williams of the Office of Compliance (202) 564-4113 or via e-mail to williams.learia@epa.gov; EPA ICR Number 1805.06, OMB Control Number 2060-0377; expiration date December 31, 2011.

(8) NSPS for Municipal Waste Combustors (40 CFR Part 60, Subparts Ea and Eb); Learia Williams of the Office of Compliance (202) 564-4113 or via e-mail to williams.learia@epa.gov; EPA ICR Number 1506.12, OMB Control Number 2060-0210; expiration date December 31, 2011.

(9) NESHAP for Cellulose Products Manufacturing (40 CFR Part 63, Subpart UUUU); Learia Williams of the Office of Compliance (202) 564-4113 or via e-mail to williams.learia@epa.gov; EPA ICR Number 1974.06, OMB Control Number 2060-0488; expiration date December 31, 2011.

(10) NSPS for Sulfuric Acid Plants (40 CFR Part 60, Subpart H); Learia Williams of the Office of Compliance (202) 564-4113 or via e-mail to williams.learia@epa.gov; EPA ICR Number 1057.12, OMB Control Number 2060-0041; expiration date December 31, 2011.

(11) NSPS for Metallic Mineral Processing Plants (40 CFR Part 60, Subpart LL); Learia Williams of the Office of Compliance (202) 564-4113 or via e-mail to williams.learia@epa.gov; EPA ICR Number 0982.10, OMB Control Number 2060-0016; expiration date December 31, 2011.

(12) NSPS for Primary and Secondary Emissions from Basic Oxygen Furnaces (40 CFR Part 60, Subparts N and Na); Learia Williams of the Office of Compliance (202) 564-4113 or via e-mail to williams.learia@epa.gov; EPA ICR Number 1069.10, OMB Control Number 2060-0029; expiration date December 31, 2011.

(13) NSPS for Glass Manufacturing Plants (40 CFR Part 60, Subpart CC); Learia Williams of the Office of Compliance (202) 564-4113 or via e-mail to williams.learia@epa.gov; EPA ICR Number 1131.10, OMB Control Number 2060-0054; expiration date December 31, 2011.

(14) NSPS for Petroleum Refineries (40 CFR Part 60, Subpart J); Learia Williams of the Office of Compliance (202) 564-4113 or via e-mail to williams.learia@epa.gov; EPA ICR Number 1054.11, OMB Control Number 2060-0022; expiration date December 31, 2011.

(15) NSPS for Bulk Gasoline Terminals (40 CFR Part 60, Subpart XX); Learia Williams of the Office of Compliance (202) 564-4113 or via e-mail to williams.learia@epa.gov; EPA ICR Number 0664.10, OMB Control Number 2060-0006; expiration date December 31, 2011.

(16) NSPS for Calciners and Dryers in Mineral Industries (40 CFR Part 60, Subpart UUU); Learia Williams of the Office of Compliance (202) 564-4113 or via e-mail to williams.learia@epa.gov; EPA ICR Number 0746.08, OMB Control Number 2060-0251; expiration date December 31, 2011.

(17) NSPS for Municipal Solid Waste Landfills (40 CFR Part 60, Subpart WWW); Learia Williams of the Office of Compliance (202) 564-4113 or via e-mail to williams.learia@epa.gov; EPA ICR Number 1557.08, OMB Control Number 2060-0220; expiration date December 31, 2011.

(18) NSPS for Metal Coil Surface Coating (40 CFR Part 60, Subpart TT); Learia Williams of the Office of Compliance (202) 564-4113 or via e-mail to williams.learia@epa.gov; EPA ICR Number 0660.11, OMB Control Number 2060-0107; expiration date December 31, 2011.

(19) NSPS for Petroleum Refineries (40 CFR Part 60, Subpart Ja); Learia Williams of the Office of Compliance (202) 564-4113 or via e-mail to williams.learia@epa.gov; EPA ICR Number 2263.03, OMB Control Number 2060-0602; expiration date December 31, 2011.

(20) NESHAP for Iron and Steel Foundries Area Sources (40 CFR Part 63, Subpart ZZZZZ); Learia Williams of the Office of Compliance (202) 564-4113 or via e-mail to williams.learia@epa.gov; EPA ICR Number 2267.03, OMB Control Number 2060-0605; expiration date December 31, 2011.

(21) NESHAP for Source Categories: Gasoline Distribution Bulk Terminals, Bulk Plants, Pipeline Facilities and Gasoline Dispensing Facilities (40 CFR Part 63, Subparts BBBBBB and CCCCCC); Learia Williams of the Office of Compliance (202) 564-4113 or via e-mail to williams.learia@epa.gov; EPA ICR Number 2237.03, OMB Control Number 2060-0620; expiration date December 31, 2011.

(22) NESHAP for Ferroalloys Production: Ferromanganese and Silicomanganese (40 CFR Part 63, Subpart XXX); Learia Williams of the Office of Compliance (202) 564-4113 or via e-mail to williams.learia@epa.gov; EPA ICR Number 1831.05, OMB Control Number 2060-0391; expiration date January 31, 2012.

(23) NESHAP for Metal Coil Surface Coating Plants (40 CFR Part 63, Subpart SSSS); Learia Williams of the Office of Compliance (202) 564-4113 or via e-mail to williams.learia@epa.gov; EPA ICR Number 1957.06, OMB Control Number 2060-0487; expiration date January 31, 2012.

(24) NESHAP for Plating and Polishing Area Sources (40 CFR Part 63, Subpart WWWWWW); Learia Williams of the Office of Compliance (202) 564-4113 or via e-mail to williams.learia@epa.gov; EPA ICR Number 2294.03, OMB Control Number 2060-0622; expiration date January 31, 2012.

(25) NESHAP for Petroleum Refineries (40 CFR Part 63, Subpart CC); Learia Williams of the Office of Compliance (202) 564-4113 or via e-mail to williams.learia@epa.gov; EPA ICR Number 1692.07, OMB Control Number 2060-0340; expiration date February 29, 2012.

(26) NESHAP for Source Categories: Generic Maximum Achievable Control Technology Standards for Carbon Black, Ethylene, Cyanide and Spandex (40 CFR Part 63, Subpart YY); Learia Williams of the Office of Compliance (202) 564-4113 or via e-mail to williams.learia@epa.gov; EPA ICR Number 1983.06, OMB Control Number 2060-0489; expiration date March 31, 2012.

(27) NESHAP for Ferroalloys Production Area Sources (40 CFR Part 63, Subpart YYYYYY); Learia Williams of the Office of Compliance (202) 564-4113 or via e-mail to williams.learia@epa.gov; EPA ICR Number 2303.03, OMB Control Number 2060-0625; expiration date March 31, 2012.

(28) NESHAP for Natural Gas Transmission and Storage Facilities (40 CFR Part 63, Subpart HHH); Learia Williams of the Office of Compliance (202) 564-4113 or via e-mail to williams.learia@epa.gov; EPA ICR Number 1789.07, OMB Control Number 2060-0418; expiration date April 30, 2012.

(29) NSPS for Grain Elevators (40 CFR Part 60, Subpart DD); Learia Williams of the Office of Compliance (202) 564-4113 or via e-mail to williams.learia@epa.gov; EPA ICR Number 1130.10, OMB Control Number 2060-0082; expiration date April 30, 2012.

(30) NSPS for Lime Manufacturing (40 CFR Part 60, Subpart HH); Learia Williams of the Office of Compliance (202) 564-4113 or via e-mail to williams.learia@epa.gov; EPA ICR Number 1167.10, OMB Control Number 2060-0063; expiration date April 30, 2012.

(31) NSPS for Hot Mix Asphalt Facilities (40 CFR Part 60, Subpart I); Learia Williams of the Office of Compliance (202) 564-4113 or via e-mail to williams.learia@epa.gov; EPA ICR Number 1127.10, OMB Control Number 2060-0083; expiration date April 30, 2012.

(32) NSPS for Kraft Pulp Mills (40 CFR Part 60, Subpart BB); Learia Williams of the Office of Compliance (202) 564-4113 or via e-mail to williams.learia@epa.gov; EPA ICR Number 1055.10, OMB Control Number 2060-0021; expiration date April 30, 2012.

(33) NESHAP for Coke Oven Batteries (40 CFR Part 63, Subpart L); Learia Williams of the Office of Compliance (202) 564-4113 or via e-mail to williams.learia@epa.gov; EPA ICR Number 1362.09, OMB Control Number 2060-0253; expiration date May 31, 2012.

(34) NESHAP for Polyether Polyols Production (40 CFR Part 63, Subpart PPP); Learia Williams of the Office of Compliance (202) 564-4113 or via e-mail to williams.learia@epa.gov; EPA ICR Number 1811.07, OMB Control Number 2060-0415; expiration date May 31, 2012.

(35) NESHAP for Inorganic Arsenic Emissions from Glass Manufacturing Plants (40 CFR Part 61, Subpart N); Learia Williams of the Office of Compliance (202) 564-4113 or via e-mail to williams.learia@epa.gov; EPA ICR Number 1081.10, OMB Control Number 2060-0043; expiration date May 31, 2012.

(36) NESHAP for Primary Lead Smelters (40 CFR Part 63, Subpart TTT); Learia Williams of the Office of Compliance (202) 564-4113 or via e-mail to williams.learia@epa.gov; EPA ICR Number 1856.08, OMB Control Number 2060-0414; expiration date May 31, 2012.

(37) NESHAP for Steel Pickling, HCL Process Facilities and Hydrochloric Acid Regeneration Plants (40 CFR Part 63, Subpart CCC); Learia Williams of the Office of Compliance (202) 564-4113 or via e-mail to williams.learia@epa.gov; EPA ICR Number 1821.07, OMB Control Number 2060-0419; expiration date May 31, 2012.

(38) NSPS for Other Solid Waste Incineration Units (40 CFR Part 60, Subpart EEEE); Learia Williams of the Office of Compliance (202) 564-4113 or via e-mail to williams.learia@epa.gov; EPA ICR Number 2163.04, OMB Control Number 2060-0563; expiration date May 31, 2012.

(39) NESHAP for Wet-Formed Fiberglass Mat Production (40 CFR Part 63, Subpart HHHH); Learia Williams of the Office of Compliance (202) 564-4113 or via e-mail to williams.learia@epa.gov; EPA ICR Number 1964.05, OMB Control Number 2060-0496; expiration date June 30, 2012.

(40) NESHAP for Source Categories: Generic Maximum Achievable Control Technology Standards for Acetal Resin; Acrylic and Modacrylic Fiber; Hydrogen Fluoride and Polycarbonate Production (40 CFR Part 63, Subpart YY); Learia Williams of the Office of Compliance (202) 564-4113 or via e-mail to williams.learia@epa.gov; EPA ICR Number 1871.06, OMB Control Number 2060-0420; expiration date June 30, 2012.

(41) NESHAP for Asbestos (40 CFR Part 61, Subpart M); Learia Williams of the Office of Compliance (202) 564-4113 or via e-mail to williams.learia@epa.gov; EPA ICR Number 0111.13, OMB Control Number 2060-0101; expiration date June 30, 2012.

(42) NSPS for Nonmetallic Mineral Processing (40 CFR Part 60, Subpart OOO); Learia Williams of the Office of Compliance (202) 564-4113 or via e-mail to williams.learia@epa.gov; EPA ICR Number 1084.11, OMB Control Number 2060-0050; expiration date June 30, 2012.

(43) NESHAP for Miscellaneous Metal Parts and Products (40 CFR Part 63, Subpart MMMM); Learia Williams of the Office of Compliance (202) 564-4113 or via e-mail to williams.learia@epa.gov; EPA ICR Number 2056.04, OMB Control Number 2060-0486; expiration date July 31, 2012.

(44) NESHAP for Flexible Polyurethane Foam Fabrication (40 CFR Part 63, Subpart MMMMM); Learia Williams of the Office of Compliance (202) 564-4113 or via e-mail to williams.learia@epa.gov; EPA ICR Number 2027.05, OMB Control Number 2060-0516; expiration date July 31, 2012.

(45) Emission Guidelines for Existing Other Solid waste Incineration Units (40 CFR Part 60, Subpart FFFF); Learia Williams of the Office of Compliance (202) 564-4113 or via e-mail to williams.learia@epa.gov; EPA ICR Number 2164.04, OMB Control Number 2060-0562; expiration date July 31, 2012.

(46) NESHAP for Reinforced Plastic Composites Production (40 CFR Part 63, Subpart WWWW); Learia Williams of the Office of Compliance (202) 564-4113 or via e-mail to williams.learia@epa.gov; EPA ICR Number 1976.05, OMB Control Number 2060-0509; expiration date July 31, 2012.

(47) NESHAP for Paper and Other Web Coating (40 CFR Part 63, Subpart JJJJ); Learia Williams of the Office of Compliance (202) 564-4113 or via e-mail to williams.learia@epa.gov; EPA ICR Number 1951.05, OMB Control Number 2060-0511; expiration date July 31, 2012.

(48) NESHAP for the Surface Coating of Large Household and Commercial Appliances (40 CFR Part 63, Subpart NNNN); Learia Williams of the Office of Compliance (202) 564-4113 or via e-mail to williams.learia@epa.gov; EPA ICR Number 1954.05, OMB Control Number 2060-0457; expiration date July 31, 2012.

(49) NESHAP for Brick and Structural Clay Manufacturing (40 CFR Part 63, Subpart JJJJJ); Learia Williams of the Office of Compliance (202) 564-4113 or via e-mail to williams.learia@epa.gov; EPA ICR Number 2022.05, OMB Control Number 2060-0508; expiration date July 31, 2012.

(50) NESHAP for Refractory Products Manufacturing (40 CFR Part 63, Subpart SSSSS); Learia Williams of the Office of Compliance (202) 564-4113 or via e-mail to williams.learia@epa.gov; EPA ICR Number 2040.05, OMB Control Number 2060-0515; expiration date July 31, 2012.

(51) NESHAP for Semiconductor Manufacturing (40 CFR Part 63, Subpart BBBBB); Learia Williams of the Office of Compliance (202) 564-4113 or via e-mail to williams.learia@epa.gov; EPA ICR Number 2042.05, OMB Control Number 2060-0519; expiration date July 31, 2012.

(52) NESHAP for Printing, Coating and Dyeing of Fabrics and Other Textiles (40 CFR Part 63, Subpart OOOO); Learia Williams of the Office of Compliance (202) 564-4113 or via e-mail to williams.learia@epa.gov; EPA ICR Number 2071.05, OMB Control Number 2060-0522; expiration date August 31, 2012.

(53) NSPS for Stationary Source Compression Ignition Internal Combustion Engines (40 CFR Part 60, Subpart IIII); Learia Williams of the Office of Compliance (202) 564-4113 or via e-mail to williams.learia@epa.gov; EPA ICR Number 2196.04, OMB Control Number 2060-0590; expiration date August 31, 2012.

(54) NESHAP for Municipal Solid Waste Landfalls (40 CFR Part 63, Subpart AAAA); Learia Williams of the Office of Compliance (202) 564-4113 or via e-mail to williams.learia@epa.gov; EPA ICR Number 1938.05, OMB Control Number 2060-0505; expiration date August 31, 2012.

(55) NESHAP for Publicly Owned Treatment Works (40 CFR Part 63, Subpart VVV); Learia Williams of the Office of Compliance (202) 564-4113 or via e-mail to williams.learia@epa.gov; EPA ICR Number 1891.06, OMB Control Number 2060-0428; expiration date August 31, 2012.

(56) NESHAP for Asphalt Processing and Asphalt Roofing Manufacturing (40 CFR Part 63, Subpart LLLLL); Learia Williams of the Office of Compliance (202) 564-4113 or via e-mail to williams.learia@epa.gov; EPA ICR Number 2029.05, OMB Control Number 2060-0520; expiration date August 31, 2012.

(57) NESHAP for Benzene Waste Operations (40 CFR Part 61, Subpart FF); Learia Williams of the Office of Compliance (202) 564-4113 or via e-mail to williams.learia@epa.gov; EPA ICR Number 1541.10, OMB Control Number 2060-0183; expiration date August 31, 2012.

(58) NESHAP for Coke Oven: Pushing, Quenching, and Battery Stacks (40 CFR Part 63, Subpart CCCCC); Learia Williams of the Office of Compliance (202) 564-4113 or via e-mail to williams.learia@epa.gov; EPA ICR Number 1995.05, OMB Control Number 2060-0521; expiration date August 31, 2012.

(59) NSPS for Petroleum Dry Cleaners (40 CFR Part 60, Subpart JJJ); Learia Williams of the Office of Compliance (202) 564-4113 or via e-mail to williams.learia@epa.gov; EPA ICR Number 0997.10, OMB Control Number 2060-0079; expiration date August 31, 2012.

(60) NESHAP for Integrated Iron and Steel Manufacturing (40 CFR Part 63, Subpart FFFFF); Learia Williams of the Office of Compliance (202) 564-4113 or via e-mail to williams.learia@epa.gov; EPA ICR Number 2003.05, OMB Control Number 2060-0517; expiration date August 31, 2012.

(61) State and Federal Emission Guidelines for Hospital/Medical/Infectious Waste Incinerators (40 CFR Part 60, Subpart Ce and 40 CFR part 62, Subpart HHH); Learia Williams of the Office of Compliance (202) 564-4113 or via e-mail to williams.learia@epa.gov; EPA ICR Number 1899.07, OMB Control Number 2060-0422; expiration date September 30, 2012.

(62) NESHAP for Shipbuilding and Ship Repair Facilities—Surface Coating (40 CFR Part 63, Subpart II); Learia Williams of the Office of Compliance (202) 564-4113 or via e-mail to williams.learia@epa.gov; EPA ICR Number 1712.07, OMB Control Number 2060-0330; expiration date September 30, 2012.

(63) NESHAP for the Wood Building Products Surface Coating Industry (40 CFR Part 63, Subpart QQQQ); Learia Williams of the Office of Compliance (202) 564-4113 or via e-mail to williams.learia@epa.gov; EPA ICR Number 2034.05, OMB Control Number 2060-0510; expiration date September 30, 2012.

(64) NESHAP for Hydrochloric Acid Production (40 CFR Part 63, Subpart NNNNN); Learia Williams of the Office of Compliance (202) 564-4113 or via e-mail to williams.learia@epa.gov; EPA ICR Number 2032.07, OMB Control Number 2060-0529; expiration date September 30, 2012.

D. Information for Individual ICRs

(1) NESHAP for Engine Test Cells/Stands (40 CFR Part 63, Subpart PPPPP), Docket ID Number: EPA-HQ-OECA-2011-0203, EPA ICR Number 2066.05, OMB Control Number 2060-0483, expiration date November 30, 2011.

Affected Entities: Entities potentially affected by this action are the owners or operators of engine test cells/stands facilities.

Abstract: The affected entities are subject to the General Provisions of the NESHAP at 40 CFR part 63, subpart A, and any changes, or additions to the General Provisions specified at 40 CFR part 63, subpart PPPPP.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 76 hours per response.

Respondents/Affected Entities: Owners or operators of engine test cells/stands.

Estimated Number of Respondents: 18.

Frequency of Response: Initially, semiannually, and annually.

Estimated Total Annual Hour Burden: 3,043.

Estimated Total Annual Cost: $247,864, which includes $242,864 in labor costs, no capital/startup costs, and $5,000 in operating and maintenance costs.

(2) NESHAP for Reporting and Recordkeeping Requirements for the Friction Materials Manufacturing Facilities (40 CFR Part 63, Subpart QQQQ), Docket ID Number: EPA-HQ-OECA-2011-0204, EPA ICR Number 2025.05, OMB Control Number 2060-0481, expiration date November 30, 2011.

Affected Entities: Entities potentially affected by this action are the owners or operators of friction materials manufacturing facilities.

Abstract: The affected entities are subject to the General Provisions of the NESHAP at 40 CFR part 63, subpart A, and any changes, or additions to the General Provisions specified at 40 CFR part 63, subpart QQQQ.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 162 hours per response.

Respondents/Affected Entities: Owners or operators of friction materials manufacturing facilities.

Estimated Number of Respondents: 4.

Frequency of Response: Initially, on occasion, semiannually, and annually.

Estimated Total Annual Hour Burden: 1,296.

Estimated Total Annual Cost: $104,512, which includes $103,424 in labor costs, no capital/startup costs, and $1,088 in operating and maintenance costs.

(3) NESHAP for Primary Copper Smelters (40 CFR Part 63, Subpart QQQQ), Docket ID Number: EPA-HQ-OECA-2011-0205, EPA ICR Number 1850.06, OMB Control Number 2060-0476, expiration date November 30, 2011.

Affected Entities: Entities potentially affected by this action are the owners or operators of primary copper smelters.

Abstract: The affected entities are subject to the General Provisions of the NESHAP at 40 CFR part 63, subpart A, and any changes, or additions to the General Provisions specified at 40 CFR part 63, subpart QQQQ.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 196 hours per response.

Respondents/Affected Entities: Owners or operators of stationary gas turbines.

Estimated Number of Respondents: 3.

Frequency of Response: On occasion, initially, monthly, semiannually, and annually.

Estimated Total Annual Hour Burden: 8,837.

Estimated Total Annual Cost: $575,068, which includes $566,848 in labor costs, no capital/startup costs, and $8,220 in operating and maintenance costs.

(4) NESHAP for Leather Finishing Operations (40 CFR Part 63, Subpart TTTT), Docket ID Number: EPA-HQ-OECA-2011-0206, EPA ICR Number 1985.05, OMB Control Number 2060-0478, expiration date November 30, 2011.

Affected Entities: Entities potentially affected by this action are the owners or operators of leather finishing operations.

Abstract: The affected entities are subject to the General Provisions of the NESHAP at 40 CFR part 63, subpart A, and any changes, or additions to the General Provisions specified at 40 CFR part 63, subpart TTTT.

Owners or operators of the affected facilities must submit initial notification, performance tests, and periodic reports and results. Owners or operators are also required to maintain records of the occurrence and duration of any startup, shutdown, or malfunction in the operation of an affected facility, or any period during which the monitoring system is inoperative. Burden Statement: The annual public reporting and recordkeeping burden for this collection of information is estimated to average 33 hours per response.

Respondents/Affected Entities: Owners or operators of leather finishing operations.

Estimated Number of Respondents: 10.

Frequency of Response: Initially, on occasion, and annually.

Estimated Total Annual Hour Burden: 334.

Estimated Total Annual Cost: $21,279, which includes $21,279 in labor costs, no capital/startup costs, and no operating and maintenance costs.

(5) NESHAP for Pesticide Active Ingredient Production (40 CFR Part 63, Subpart MMM), Docket ID Number: EPA-HQ-OECA-2011-0207, EPA ICR Number 1807.05, OMB Control Number 2060-0370, expiration date December 31, 2011.

Affected Entities: Entities potentially affected by this action are the owners or operators of pesticide active ingredient facilities.

Abstract: The affected entities are subject to the General Provisions of the NESHAP at 40 CFR part 63, subpart A, and any changes, or additions to the General Provisions specified at 40 CFR part 63, subpart MMM.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 60 hours per response.

Respondents/Affected Entities: Pesticide active ingredient production facilities.

Estimated Number of Respondents: 88.

Frequency of Response: Initially, quarterly, and semiannually.

Estimated Total Annual Hour Burden: 24,168.

Estimated Total Annual Cost: $1,895,079, which includes $1,542,049 in labor costs, $236,430 in capital/startup costs, and $116,600 in operating and maintenance costs.

(6) NESHAP for Pulp and Paper Production (40 CFR Part 63, Subpart S), Docket ID Number: EPA-HQ-OECA-2011-0208, EPA ICR Number 1657.07, OMB Control Number 2060-0387, expiration date December 31, 2011.

Affected Entities: Entities potentially affected by this action are the owners or operators of pulp and paper production.

Abstract: The affected entities are subject to the General Provisions of the NESHAP at 40 CFR part 63, subpart A, and any changes, or additions to the General Provisions specified at 40 CFR part 63, subpart S.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 104 hours per response.

Respondents/Affected Entities: Owners or operators of pulp paper mills.

Estimated Number of Respondents: 137.

Frequency of Response: Initially, quarterly, and semiannually.

Estimated Total Annual Hour Burden: 42,444.

Estimated Total Annual Cost: $3,085,125, which includes $2,708,125 in labor costs, no capital/startup costs, and $377,000 in operating and maintenance costs.

(7) NESHAP for Chemical Recovery Combustion Sources at Kraft, Soda, Sulfite, and Stand-Alone Semichemical Pulp Mills (40 CFR Part 63, Subpart MM), Docket ID Number: EPA-HQ-OECA-2011-0209, EPA ICR Number 1805.06, OMB Control Number 2060-0377, expiration date December 31, 2011.

Affected Entities: Entities potentially affected by this action are the owners or operators of chemical recovery combustion sources at kraft, soda, sulfite, and stand-alone semichemical pulp mills.

Abstract: The affected entities are subject to the General Provisions of the NESHAP at 40 CFR part 63, subpart A, and any changes, or additions to the General Provisions specified at 40 CFR part 63, subpart MM.

Owners or operators of the affected facilities must submit initial notifications; notifications of performance tests; notifications of performance evaluations; notification of compliance status, including the results of performance tests. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 104 hours per response.

Respondents/Affected Entities: Owners or operators of aerospace manufacturing and rework facilities sulfur units at petroleum refineries.

Estimated Number of Respondents: 136.

Frequency of Response: Initially, semiannually and on-occasion.

Estimated Total Annual Hour Burden: 42,444.

Estimated Total Annual Cost: $3,085,125, which includes $2,708,125 in labor costs, no capital/startup costs, and $377,000 in operating and maintenance costs.

(8) NSPS for Municipal Waste Combustors (40 CFR Part 60, Subparts Ea and Eb), Docket ID Number: EPA-HQ-OECA-2011-0210, EPA ICR Number 1506.12, OMB Control Number 2060-0210, expiration December 31, 2011.

Affected Entities: Entities potentially affected by this action are the owners or operators of municipal waste combustors.

Abstract: The affected entities are subject to the General Provisions of the NSPS at 40 CFR part 60, subpart A, and any changes, or additions to the General Provisions specified at 40 CFR part 60, subparts Ea and Eb.

Owners or operators of the affected facilities must submit initial notification, performance tests, and periodic reports. Owners or operators are also required to maintain records of the occurrence and duration of any startup, shutdown, or malfunction in the operation of an affected facility, or any period during which the monitoring system is inoperative.

Burden Statement: The annual public reporting and recordkeeping burden for this collection of information is estimated to average 198 hours per response.

Respondents/Affected Entities: Municipal waste combustors.

Estimated Number of Respondents: 12.

Frequency of Response: Initially, quarterly, semiannually, and annually.

Estimated Total Annual Hour Burden: 20,421.

Estimated Total Annual Cost: $1,635,293, which includes $1,476,293 in labor costs, $60,000 in capital/startup costs, and $99,000 in operating and maintenance costs.

(9) NESHAP for Cellulose Products Manufacturing (40 CFR Part 63, Subpart UUUU), Docket ID Number: EPA-HQ-OECA-2011-0216, EPA ICR Number 1974.06, OMB Control Number 2060-0488, expiration December 31, 2011.

Affected Entities: Entities potentially affected by this action are the owners or operators of cellulose products manufacturing operation.

Abstract: The affected entities are subject to the General Provisions of the NESHAP at 40 CFR part 63, subpart A, and any changes, or additions to the General Provisions specified at 40 CFR part 63, subpart UUUU.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 141 hours per response.

Respondents/Affected Entities: Cellulose products manufacturing.

Estimated Number of Respondents: 13.

Frequency of Response: On-occasion, weekly, and semiannually.

Estimated Total Annual Hour Burden: 12,088.

Estimated Total Annual Cost: $965,095, which includes $964,081 in labor costs, no capital/startup costs, and $1,014 in operating and maintenance costs.

(10) NSPS for Sulfuric Acid Plants (40 CFR Part 60, Subpart H), Docket ID Number: EPA-HQ-OECA-2011-0217, EPA ICR Number 1057.12, OMB Control Number 2060-0041, expiration December 31, 2011.

Affected Entities: Entities potentially affected by this action are the owners or operators of sulfuric acid plants.

Abstract: The affected entities are subject to the General Provisions of the NSPS at 40 CFR part 60, subpart A, and any changes, or additions to the General Provisions specified at 40 CFR part 60, subpart H.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 127 hours per response.

Respondents/Affected Entities: Sulfuric acid plants.

Estimated Number of Respondents: 103.

Frequency of Response: Initially, occasionally, and semiannually.

Estimated Total Annual Hour Burden: 26,177.

Estimated Total Annual Cost: $2,576,771, which includes $2,113,271 in labor costs, no capital/startup costs, and $463,500 in operating and maintenance costs.

(11) NSPS for Metallic Mineral Processing Plants (40 CFR Part 60, Subpart LL), Docket ID Number: EPA-HQ-OECA-2011-0218, EPA ICR Number 0982.10, OMB Control Number 2060-0016, expiration December 31, 2011.

Affected Entities: Entities potentially affected by this action are the owners or operators of metallic mineral processing plants.

Abstract: The affected entities are subject to the General Provisions of the NSPS at 40 CFR part 60, subpart A, and any changes, or additions to the General Provisions specified at 40 CFR part 60, subpart LL.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 52 hours per response.

Respondents/Affected Entities: Metallic mineral processing plants.

Estimated Number of Respondents: 20.

Frequency of Response: Initially, semiannually and on-occasion.

Estimated Total Annual Hour Burden: 2,306.

Estimated Total Annual Cost: $199,140, which includes $186,140 in labor costs, no capital/startup costs, and $13,000 in operating and maintenance costs.

(12) NSPS for Primary and Secondary Emissions from Basic Oxygen Furnaces (40 CFR Part 60, Subparts N and Na), Docket ID Number: EPA-HQ-OECA-2011-0219, EPA ICR Number 1069.10, OMB Control Number 2060-0029, expiration December 31, 2011.

Affected Entities: Entities potentially affected by this action are the owners or operators of basic oxygen furnaces.

Abstract: The affected entities are subject to the General Provisions of the NSPS at 40 CFR part 60, subpart A, and any changes, or additions to the General Provisions specified at 40 CFR part 60, subparts N and Na.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 158 hours per response.

Respondents/Affected Entities: Facilities with basic oxygen furnaces.

Estimated Number of Respondents: 5.

Frequency of Response: Initially, occasionally, and semiannually.

Estimated Total Annual Hour Burden: 1,896.

Estimated Total Annual Cost: $179,440, which includes $153,043 in labor costs, $18,000 in capital/startup costs, and $8,397 in operating and maintenance costs.

(13) NSPS for Glass Manufacturing Plants (40 CFR Part 60, Subpart CC), Docket ID Number: EPA-HQ-OECA-2011-0220, EPA ICR Number 1131.10, OMB Control Number 2060-0054, expiration December 31, 2011.

Affected Entities: Entities potentially affected by this action are the owners or operators of glass manufacturing plants.

Abstract: The affected entities are subject to the General Provisions of the NSPS at 40 CFR part 60, subpart A, and any changes or additions to the General Provisions specified at 40 CFR part 60, subpart CC.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 8 hours per response.

Respondents/Affected Entities: Glass manufacturing plants.

Estimated Number of Respondents: 41.

Frequency of Response: Occasionally, semiannually, and annually.

Estimated Total Annual Hour Burden: 803.

Estimated Total Annual Cost: $302,600, which includes $64,800 in labor costs, no capital/startup costs, and $237,800 in operating and maintenance costs.

(14) NSPS for Petroleum Refineries (40 CFR Part 60, Subpart J), Docket ID Number: EPA-HQ-OECA-2011-0222, EPA ICR Number 1054.11, OMB Control Number 2060-0022, expiration December 31, 2011.

Affected Entities: Entities potentially affected by this action are the owners or operators of petroleum refineries.

Abstract: The affected entities are subject to the General Provisions of the NSPS at 40 CFR part 60, subpart A, and any changes, or additions to the General Provisions specified at 40 CFR part 60, subpart J.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 50 hours per response.

Respondents/Affected Entities: Owners or operators of Petroleum refineries.

Estimated Number of Respondents: 132.

Frequency of Response: Initially, occasionally, and semiannually.

Estimated Total Annual Hour Burden: 14,134.

Estimated Total Annual Cost: $1,682,453, which includes $1,140,989 in labor costs, no capital/startup costs, and $541,464 in operating and maintenance costs.

(15) NSPS for Bulk Gasoline Terminals (40 CFR Part 60, Subpart XX), Docket ID Number: EPA-HQ-OECA-2011-0223, EPA ICR Number 0664.10, OMB Control Number 2060-0006, expiration December 31, 2011.

Affected Entities: Entities potentially affected by this action are the owners or operators of bulk gasoline terminals.

Abstract: The affected entities are subject to the General Provisions of the NSPS at 40 CFR part 60, subpart A, and any changes, or additions to the General Provisions specified at 40 CFR part 60, subpart XX.

Owners or operators of the affected facilities must submit initial notification, performance tests, and periodic reports and results. Owners or operators are also required to maintain records of the occurrence and duration of any startup, shutdown, or malfunction in the operation of an affected facility, or any period during which the monitoring system is inoperative.

Burden Statement: The annual public reporting and recordkeeping burden for this collection of information is estimated to average 329 hours per response.

Respondents/Affected Entities: Bulk gasoline terminals.

Estimated Number of Respondents: 40.

Frequency of Response: Initially, and occasionally.

Estimated Total Annual Hour Burden: 13,165.

Estimated Total Annual Cost: $1,062,809, which includes $1,062,809 in labor costs, no capital/startup costs, and no operating and maintenance costs.

(16) NSPS for Calciners and Dryers in Mineral Industries (40 CFR Part 60, Subpart UUU), Docket ID Number: EPA-HQ-OECA-2011-0224, EPA ICR Number 0746.08, OMB Control Number 2060-0251, expiration December 31, 2011.

Affected Entities: Entities potentially affected by this action are the owners or operators of calciners and dryers in the mineral industries.

Abstract: The affected entities are subject to the General Provisions of the NSPS at 40 CFR part 60, subpart A, and any changes, or additions to the General Provisions specified at 40 CFR part 60, subpart UUU.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 20 hours per response.

Respondents/Affected Entities: Calciners and dryers in the mineral industries.

Estimated Number of Respondents: 167.

Frequency of Response: Initially, occasionally, and semiannually.

Estimated Total Annual Hour Burden: 6,955.

Estimated Total Annual Cost: $674,485, which includes $561,485 in labor costs, $4,000 in capital/startup costs, and $109,000 in operating and maintenance costs.

(17) NSPS for Municipal Solid Waste Landfills (40 CFR Part 60, Subpart WWW), Docket ID Number: EPA-HQ-OECA-2011-0225, EPA ICR Number 1557.08, OMB Control Number 2060-0220, expiration December 31, 2011.

Affected Entities: Entities potentially affected by this action are the owners or operators of municipal solid waste landfills.

Abstract: The affected entities are subject to the General Provisions of the NSPS at 40 CFR part 60, subpart A, and any changes, or additions to the General Provisions specified at 40 CFR part 60, subpart WWW.

Owners or operators of the affected facilities must submit initial notification, performance tests, and periodic reports and results. Owners or operators are also required to maintain records of the occurrence and duration of any startup, shutdown, or malfunction in the operation of an affected facility, or any period during which the monitoring system is inoperative.

Burden Statement: The annual public reporting and recordkeeping burden for this collection of information is estimated to average 17 hours per response.

Respondents/Affected Entities: Municipal solid waste landfills.

Estimated Number of Respondents: 175.

Frequency of Response: Occasionally, initially, and annually.

Estimated Total Annual Hour Burden: 3,548.

Estimated Total Annual Cost: $2,133,921, which includes $2,113,271 in labor costs, no capital/startup costs, and $20,650 in operating and maintenance costs.

(18) NSPS for Metal Coil Surface Coating (40 CFR Part 60, Subpart TT), Docket ID Number: EPA-HQ-OECA-2011-0226, EPA ICR Number 0660.11, OMB Control Number 2060-0107, expiration December 31, 2011.

Affected Entities: Entities potentially affected by this action are the owners or operators of metal coil surface coating facilities.

Abstract: The affected entities are subject to the General Provisions of the NSPS at 40 CFR part 60, subpart A, and any changes, or additions to the General Provisions specified at 40 CFR part 60, subpart TT.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 41 hours per response.

Respondents/Affected Entities: Metal coil surface coating facilities

Estimated Number of Respondents: 158.

Frequency of Response: Initially, occasionally, annually, and semiannually.

Estimated Total Annual Hour Burden: 15,643.

Estimated Total Annual Cost: $1,594,680, which includes $1,262,880 in labor costs, no capital/startup costs, and $331,800 in operating and maintenance costs.

(19) NSPS for Petroleum Refineries (40 CFR Part 60, Subpart Ja), Docket ID Number: EPA-HQ-OECA-2011-0228, EPA ICR Number 2263.03, OMB Control Number 2060-0602, expiration December 31, 2011.

Affected Entities: Entities potentially affected by this action are the owners or operators of petroleum refineries.

Abstract: The affected entities are subject to the General Provisions of the NSPS at 40 CFR part 60, subpart A, and any changes, or additions to the General Provisions specified at 40 CFR part 60, subpart Ja.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 148 hours per response.

Respondents/Affected Entities: Owners or operators of clay ceramics manufacturing, glass manufacturing, and secondary nonferrous metals processing area sources.

Estimated Number of Respondents: 18.

Frequency of Response: Initially, semiannually, and occasionally.

Estimated Total Annual Hour Burden: 5,340.

Estimated Total Annual Cost: $3,169,440, which includes $2,052,000 in labor costs, no capital/startup costs, and $1,117,440 in operating and maintenance costs.

(20) NESHAP for Iron and Steel Foundries area Sources (40 CFR Part 63, Subpart ZZZZZ), Docket ID Number: EPA-HQ-OECA-2011-0229, EPA ICR Number 2267.03, OMB Control Number 2060-0605, expiration December 31, 2011.

Affected Entities: Entities potentially affected by this action are the owners or operators of iron and steel foundries that are area sources.

Abstract: The affected entities are subject to the General Provisions of the NESHAP at 40 CFR part 63, subpart A, and any changes, or additions to the General Provisions specified at 40 CFR part 63, subpart ZZZZZ.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 16 hours per response.

Respondents/Affected Entities: Owners or operators of iron and steel foundries area sources.

Estimated Number of Respondents: 427.

Frequency of Response: Initially, and semiannually.

Estimated Total Annual Hour Burden: 6,024.

Estimated Total Annual Cost: $429,208, which includes $420,718 in labor costs, $8,490 in capital/startup costs, and no operating and maintenance costs.

(21) NESHAP for Source Categories: Gasoline Distribution Bulk Terminals, Bulk Plants, Pipeline Facilities and Gasoline Dispensing Facilities (40 CFR Part 63, Subparts BBBBBB, and CCCCCC), Docket ID Number: EPA-HQ-OECA-2011-0230, EPA ICR Number 2237.03.10, OMB Control Number 2060-062-0, expiration December 31, 2011.

Affected Entities: Entities potentially affected by this action are the owners or operators of gasoline distribution bulk terminals, bulk plants, pipeline facilities, and gasoline dispensing facilities.

Abstract: The affected entities are subject to the General Provisions of the NESHAP at 40 CFR part 63, subpart A, and any changes, or additions to the General Provisions specified at 40 CFR part 63, subparts BBBBBB, and CCCCCC.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 10 hours per response.

Respondents/Affected Entities: Owners or operators of gasoline distribution bulk terminals, bulk plants, pipeline facilities and gasoline dispensing facilities.

Estimated Number of Respondents: 9,863.

Frequency of Response: Initially and semiannually.

Estimated Total Annual Hour Burden: 129,723.

Estimated Total Annual Cost: $8,437,493, which includes $8,327,493 in labor costs, no capital/startup costs, and $110,000 in operating and maintenance costs.

(22) NESHAP for Ferroalloys Production: Ferromanganese and Silicomanganese (40 CFR Part 63, Subpart XXX), Docket ID Number: EPA-HQ-OECA-2011-0231, EPA ICR Number 1831.05, OMB Control Number 2060-0391, expiration January 31, 2012.

Affected Entities: Entities potentially affected by this action are the owners or operators of ferroalloys production: Ferromanganese, and silicomanganese.

Abstract: The affected entities are subject to the General Provisions of the NESHAP at 40 CFR part 63, subpart A, and any changes, or additions to the General Provisions specified at 40 CFR part 63, subpart XXX.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 83 hours per response.

Respondents/Affected Entities: Owners or operators of ferroalloys production: Ferromanganese and silicomanganese.

Estimated Number of Respondents: 1.

Frequency of Response: Initially, semiannually and annually.

Estimated Total Annual Hour Burden: 548.

Estimated Total Annual Cost: $37,129, which includes $37,129 in labor costs, no capital/startup costs, and no operating and maintenance costs.

(23) NESHAP for Metal Coil Surface Coating Plants (40 CFR Part 63, Subpart SSSS), Docket ID Number: EPA-HQ-OECA-2011-0232, EPA ICR Number 1957.06, OMB Control Number 2060-0487, expiration January 31, 2012.

Affected Entities: Entities potentially affected by this action are the owners or operators of metal coil surface coating plants.

Abstract: The affected entities are subject to the General Provisions of the NESHAP at 40 CFR part 63, subpart A, and any changes, or additions to the General Provisions specified at 40 CFR part 63, subpart SSSS.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 119 hours per response.

Respondents/Affected Entities: Owners or operators of metal coil surface coating plants.

Estimated Number of Respondents: 89.

Frequency of Response: Initially, weekly, annually, semiannually and occasionally.

Estimated Total Annual Hour Burden: 19,901.

Estimated Total Annual Cost: $1,592,013, which includes $588,365 in labor costs, no capital/startup costs, and $3,648 in operating and maintenance costs.

(24) NESHAP for Plating and Polishing Area Sources (40 CFR Part 63, Subpart WWWWWW), Docket ID Number: EPA-HQ-OECA-2011-0233, EPA ICR Number 2294.03, OMB Control Number 2060-0622, expiration January 31, 2012.

Affected Entities: Entities potentially affected by this action are the owners or operators of plating and polishing operations.

Abstract: The affected entities are subject to the General Provisions of the NESHAP at 40 CFR part 63, subpart A, and any changes, or additions to the General Provisions specified at 40 CFR part 63, subpart WWWWWW.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 16 hours per response.

Respondents/Affected Entities: Owners or operators of plating and polishing operations.

Estimated Number of Respondents: 2,900.

Frequency of Response: Initially, and annually.

Estimated Total Annual Hour Burden: 33,290.

Estimated Total Annual Cost: $1,057,290, which includes $1,048,976 in labor costs, $8,314 capital/startup costs, and no operating and maintenance costs.

(25) NESHAP for Petroleum Refineries (40 CFR Part 63, Subpart CC), Docket ID Number: EPA-HQ-OECA-2011-0234, EPA ICR Number 1692.07, OMB Control Number 2060-0340, expiration February 29, 2012.

Affected Entities: Entities potentially affected by this action are the owners or operators of petroleum refineries plants.

Abstract: The affected entities are subject to the General Provisions of the NESHAP at 40 CFR part 63, subpart A, and any changes, or additions to the General Provisions specified at 40 CFR part 63, subpart CC.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 409 hours per response.

Respondents/Affected Entities: Petroleum refineries plants.

Estimated Number of Respondents: 154.

Frequency of Response: Occasionally, annually, semiannually, and quarterly.

Estimated Total Annual Hour Burden: 425,536.

Estimated Total Annual Cost: $40,459,011, which includes $38,075,660 in labor costs, $2,321,640 in capital/startup costs, and $61,711 in operating and maintenance costs.

(26) NESHAP for Source Categories: Generic Maximum Achievable Control Technology Standards for Carbon Black, Ethylene, Cyanide and Spandex (40 CFR Part 63, Subpart YY), Docket ID Number: EPA-HQ-OECA-2011-0235, EPA ICR Number 1983.06, OMB Control Number 2060-0489, expiration March 31, 2012.

Affected Entities: Entities potentially affected by this action are the owners or operators of source categories: Generic maximum achievable control technology standards for carbon black, ethylene, cyanide and spandex facilities.

Abstract: The affected entities are subject to the General Provisions of the NESHAP at 40 CFR part 63, subpart A, and any changes, or additions to the General Provisions specified at 40 CFR part 63, subpart YY.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 90 hours per response.

Respondents/Affected Entities: Source categories: generic maximum achievable control technology standards for carbon black, ethylene, cyanide and spandex facilities.

Estimated Number of Respondents: 72.

Frequency of Response: Annually, semiannually, and occasionally.

Estimated Total Annual Hour Burden: 13,533.

Estimated Total Annual Cost: $1,439,214, which includes $1,080,149 in labor costs, no capital/startup costs, and $359,065 in operating and maintenance costs.

(27) NESHAP for Ferroalloys Production Area Sources (40 CFR Part 63, Subpart YYYYYY), Docket ID Number: EPA-HQ-OECA-2011-0236, EPA ICR Number 2303.03, OMB Control Number 2060-0625, expiration March 31, 2012.

Affected Entities: Entities potentially affected by this action are the owners or operators of ferroalloys production area sources facilities.

Abstract: The affected entities are subject to the General Provisions of the NESHAP at 40 CFR part 63, subpart A, and any changes, or additions to the General Provisions specified at 40 CFR part 63, subpart YYYYYY.

Owners or operators of the affected facilities must submit initial notification, performance tests, and periodic reports and results. Owners or operators are also required to maintain records of the occurrence and duration of any startup, shutdown, or malfunction in the operation of an affected facility, or any period during which the monitoring system is inoperative.

Burden Statement: The annual public reporting and recordkeeping burden for this collection of information is estimated to average 39 hours per response.

Respondents/Affected Entities: Ferroalloys production area sources facilities.

Estimated Number of Respondents: 10.

Frequency of Response: Initially, and annually.

Estimated Total Annual Hour Burden: 387.

Estimated Total Annual Cost: $64,429, which includes $64,429 in labor costs, no capital/startup costs, and no operating and maintenance costs.

(28) NESHAP for Natural Gas Transmission and Storage (40 CFR Part 63, Subpart HHH), Docket ID Number: EPA-HQ-OECA-2011-0238, EPA ICR Number 1789.07, OMB Control Number 2060-0418, expiration April 30, 2012.

Affected Entities: Entities potentially affected by this action are the owners or operators of natural gas transmission and storage facilities.

Abstract: The affected entities are subject to the General Provisions of the NESHAP at 40 CFR part 63, subpart A, and any changes, or additions to the General Provisions specified at 40 CFR part 63, subpart HHH.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 15 hours per response.

Respondents/Affected Entities: Natural gas transmission and storage facilities.

Estimated Number of Respondents: 832.

Frequency of Response: Initially, occasionally, and semiannually.

Estimated Total Annual Hour Burden: 753.

Estimated Total Annual Cost: $61,085, which includes $61,085 in labor costs, no capital/startup costs, and no operating and maintenance costs.

(29) NSPS for Grain Elevators (40 CFR Part 60, Subpart DD), Docket ID Number: EPA-HQ-OECA-2011-0239, EPA ICR Number 1130.10, OMB Control Number 2060-0082, expiration April 30, 2012.

Affected Entities: Entities potentially affected by this action are the owners or operators of grain elevators.

Abstract: The affected entities are subject to the General Provisions of the NESHAP at 40 CFR part 60, subpart A, and any changes, or additions to the General Provisions specified at 40 CFR part 60, subpart DD.

Owners or operators of the affected facilities must submit initial notification, performance tests, and periodic reports and results. Owners or operators are also required to maintain records of the occurrence and duration of any startup, shutdown, or malfunction in the operation of an affected facility, or any period during which the monitoring system is inoperative.

Burden Statement: The annual public reporting and recordkeeping burden for this collection of information is estimated to average 10 hours per response.

Respondents/Affected Entities: Grain elevators.

Estimated Number of Respondents: 200.

Frequency of Response: Occasionally, initially, and annually.

Estimated Total Annual Hour Burden: 2,070.

Estimated Total Annual Cost: $167,108, which includes $167,108 in labor costs, no capital/startup costs, and no operating and maintenance costs.

(30) NSPS for Lime Manufacturing (40 CFR Part 60, Subpart HH), Docket ID Number: EPA-HQ-OECA-2011-0240, EPA ICR Number 1167.10, OMB Control Number 2060-0063, expiration April 30, 2012.

Affected Entities: Entities potentially affected by this action are the owners or operators of lime production facilities.

Abstract: The affected entities are subject to the General Provisions of the NSPS at 40 CFR part 60, subpart A, and any changes, or additions to the General Provisions specified at 40 CFR part 60, subpart HH.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 46 hours per response.

Respondents/Affected Entities: Lime production facilities.

Estimated Number of Respondents: 41.

Frequency of Response: Initially, occasionally, and semiannually.

Estimated Total Annual Hour Burden: 3,773.

Estimated Total Annual Cost: $366,056, which includes $304,556 in labor costs, no capital/startup costs, and $61,500 in operating and maintenance costs.

(31) NSPS for Hot Mix Asphalt Facilities (40 CFR Part 60, Subpart I), Docket ID Number: EPA-HQ-OECA-2011-0241, EPA ICR Number 1127.10, OMB Control Number 2060-0083, expiration April 30, 2012.

Affected Entities: Entities potentially affected by this action are the owners or operators of hot mix asphalt facilities.

Abstract: The affected entities are subject to the General Provisions of the NSPS at 40 CFR part 60, subpart A, and any changes, or additions to the General Provisions specified at 40 CFR part 60, subpart I.

Owners or operators of the affected facilities must submit initial notification, performance tests, and periodic reports and results. Owners or operators are also required to maintain records of the occurrence and duration of any startup, shutdown, or malfunction in the operation of an affected facility, or any period during which the monitoring system is inoperative.

Burden Statement: The annual public reporting and recordkeeping burden for this collection of information is estimated to average 2 hours per response.

Respondents/Affected Entities: Owners or operators of hot mix asphalt facilities.

Estimated Number of Respondents: 4,010.

Frequency of Response: Initially, and occasionally.

Estimated Total Annual Hour Burden: 17,740.

Estimated Total Annual Cost: $1,431,455, which includes $1,431,455 in labor costs, no capital/startup costs and no operating and maintenance costs.

(32) NSPS for Kraft Pulp Mills (40 CFR Part 60, Subpart BB), Docket ID Number: EPA-HQ-OECA-2011-0242, EPA ICR Number 1055.10, OMB Control Number 2060-0021, expiration April 30, 2012.

Affected Entities: Entities potentially affected by this action are the owners or operators of kraft pulp mills.

Abstract: The affected entities are subject to the General Provisions of the NSPS at 40 CFR part 60, subpart A, and any changes, or additions to the General Provisions specified at 40 CFR part 60, subpart BB.

Owners or operators of the affected facilities must submit initial notification, performance tests, and periodic reports and results. Owners or operators are also required to maintain records of the occurrence and duration of any startup, shutdown, or malfunction in the operation of an affected facility, or any period during which the monitoring system is inoperative. Reports are also required, at a minimum, semiannually.

Burden Statement: The annual public reporting and recordkeeping burden for this collection of information is estimated to average 37 hours per response.

Respondents/Affected Entities: Owners or operators of kraft pulp mills.

Estimated Number of Respondents: 15,235.

Frequency of Response: Initially, occasionally, and semiannually.

Estimated Total Annual Hour Burden: 15,235.

Estimated Total Annual Cost: $5,194,799, which includes $1,229,899 in labor costs, $344,900 in capital/startup costs and $3,620,000 in operating and maintenance costs.

(33) NESHAP for Coke Oven Batteries (40 CFR Part 63, Subpart L), Docket ID Number: EPA-HQ-OECA-2011-0243, EPA ICR Number 1362.09, OMB Control Number 2060-0253, expiration May 31, 2012.

Affected Entities: Entities potentially affected by this action are the owners or operators of coke oven batteries.

Abstract: The affected entities are subject to the General Provisions of the NESHAP at 40 CFR part 63, subpart A, and any changes, or additions to the General Provisions specified at 40 CFR part 63, subpart L.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 1,908 hours per response.

Respondents/Affected Entities: Owners or operators of coke oven batteries.

Estimated Number of Respondents: 19.

Frequency of Response: Initially, occasionally, and semiannually.

Estimated Total Annual Hour Burden: 80,121.

Estimated Total Annual Cost: $6,564,165, which includes $6,564,165 in labor costs, no capital/startup costs and no operating and maintenance costs.

(34) NESHAP for Polyether Polyols Production (40 CFR Part 63, Subpart PPP), Docket ID Number: EPA-HQ-OECA-2011-0244, EPA ICR Number 1811.07, OMB Control Number 2060-0415, expiration May 31, 2012.

Affected Entities: Entities potentially affected by this action are the owners or operators of polyether polyols production.

Abstract: The affected entities are subject to the General Provisions of the NESHAP at 40 CFR part 62, subpart A, and any changes, or additions to the General Provisions specified at 40 CFR part 63, subpart PPP.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 72 hours per response.

Respondents/Affected Entities: Owners or operators of polyether polyols production.

Estimated Number of Respondents: 82.

Frequency of Response: Initially, annually, and semiannually.

Estimated Total Annual Hour Burden: 13,042.

Estimated Total Annual Cost: $1,243,954, which includes $1,040,942 in labor costs, $203,012 in capital/startup costs and no operating and maintenance costs.

(35) NESHAP for Inorganic Arsenic Emissions from Glass Manufacturing Plants (40 CFR Part 61, Subpart N), Docket ID Number: EPA-HQ-OECA-2011-0245, EPA ICR Number 1081.10, OMB Control Number 2060-0043, expiration May 31, 2012.

Affected Entities: Entities potentially affected by this action are the owners or operators of inorganic arsenic emissions from glass manufacturing plants.

Abstract: The affected entities are subject to the General Provisions of the NESHAP at 40 CFR part 61, subpart A, and any changes, or additions to the General Provisions specified at 40 CFR part 61, subpart N.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 49 hours per response.

Respondents/Affected Entities: Owners or operators of inorganic arsenic emissions from glass manufacturing plants.

Estimated Number of Respondents: 16.

Frequency of Response: Initially, occasionally, annually, and semiannually.

Estimated Total Annual Hour Burden: 3,098.

Estimated Total Annual Cost: $306,106, which includes $250,106 in labor costs, no capital/startup costs and $56,000 in operating and maintenance costs.

(36) NESHAP for Primary Lead Smelters (40 CFR Part 63, Subpart TTT), Docket ID Number: EPA-HQ-OECA-2011-0246, EPA ICR Number 1856.08, OMB Control Number 2060-0414, expiration May 31, 2012.

Affected Entities: Entities potentially affected by this action are the owners or operators of primary lead smelters.

Abstract: The affected entities are subject to the General Provisions of the NESHAP at 40 CFR part 63, subpart A, and any changes, or additions to the General Provisions specified at 40 CFR part 63, subpart TTT.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 3,048 hours per response.

Respondents/Affected Entities: Owners or operators of primary lead smelters.

Estimated Number of Respondents: 2.

Frequency of Response: Initially, occasionally, annually, and semiannually.

Estimated Total Annual Hour Burden: 12,190.

Estimated Total Annual Cost: $1,003,082, which includes $984,082 in labor costs, no capital/startup costs and $19,000 in operating and maintenance costs.

(37) NESHAP for Steel Pickling, HCL Processing Facilities and Hydrochloric Acid Regeneration (40 CFR Part 63, Subpart CCC), Docket ID Number: EPA-HQ-OECA-2011-0248, EPA ICR Number 1821.07, OMB Control Number 2060-0419, expiration May 31, 2012.

Affected Entities: Entities potentially affected by this action are the owners or operators of steel pickling, HCL process facilities and hydrochloric acid regeneration.

Abstract: The affected entities are subject to the General Provisions of the NESHAP at 40 CFR part 63, subpart A, and any changes, or additions to the General Provisions specified at 40 CFR part 63, subpart CCC.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 168 hours per response.

Respondents/Affected Entities: Owners or operators of steel pickling, HCL process facilities and hydrochloric acid regeneration plants.

Estimated Number of Respondents: 25,316.

Frequency of Response: Initially, occasionally, and semiannually.

Estimated Total Annual Hour Burden: 25,316.

Estimated Total Annual Cost: $2,283,406, which includes $2,275,774 in labor costs, no capital/startup costs and $7,632 in operating and maintenance costs.

(38) NSPS for Other Solid Waste Incineration Units (40 CFR Part 60, Subpart EEEE), Docket ID Number: EPA-HQ-OECA-2011-0249, EPA ICR Number 2163.04, OMB Control Number 2060-0563, expiration May 31, 2012.

Affected Entities: Entities potentially affected by this action are the owners or operators of other solid waste incineration units.

Abstract: The affected entities are subject to the General Provisions of the NSPS at 40 CFR part 60, subpart A, and any changes, or additions to the General Provisions specified at 40 CFR part 60, subpart EEEE.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 0 hours per response.

Respondents/Affected Entities: Owners or operators of other solid waste incineration units.

Estimated Number of Respondents: 0.

Frequency of Response: Initially, annually, and semiannually.

Estimated Total Annual Hour Burden: 0.

Estimated Total Annual Cost: $0, which includes no labor costs, no capital/startup costs, and no operating and maintenance costs.

(39) NESHAP for Wet-Formed Fiberglass Mat Production (40 CFR Part 63, Subpart HHHH), Docket ID Number: EPA-HQ-OECA-2011-0250, EPA ICR Number 1964.05, OMB Control Number 2060-0496, expiration June 30, 2012.

Affected Entities: Entities potentially affected by this action are the owners or operators of wet-formed fiberglass mat production.

Abstract: The affected entities are subject to the General Provisions of the NESHAP at 40 CFR part 63, subpart A, and any changes, or additions to the General Provisions specified at 40 CFR part 63, subpart HHHH.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 61 hours per response.

Respondents/Affected Entities: Owners or operators of wet-formed fiberglass mat production.

Estimated Number of Respondents: 14.

Frequency of Response: Initially, occasionally, annually, and semiannually.

Estimated Total Annual Hour Burden: 1,966.

Estimated Total Annual Cost: $158,672, which includes $158,672 in labor costs, no capital/startup costs, and no operating and maintenance costs.

(40) NESHAP for Source Categories: Generic Maximum Achievable Control Technology Standards for Acetal Resin; Acrylic and Modacrylic Fiber; Hydrogen fluoride and Polycarbonate Production (40 CFR Part 63, Subpart YY), Docket ID Number: EPA-HQ-OECA-2011-0251, EPA ICR Number 1871.06, OMB Control Number 2060-0420, expiration June 30, 2012.

Affected Entities: Entities potentially affected by this action are the owners or operators of source categories: Generic maximum achievable control technology standards for acetal resin; acrylic and modacrylic fiber; hydrogen fluoride and polycarbonate production.

Abstract: The affected entities are subject to the General Provisions of the NESHAP at 40 CFR part 63, subpart A, and any changes, or additions to the General Provisions specified at 40 CFR part 63, subpart YY.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 133 hours per response.

Respondents/Affected Entities: Owners or operators of source categories: Generic maximum achievable control technology standards for acetal resin; acrylic and modacrylic fiber; hydrogen fluoride and polycarbonate production.

Estimated Number of Respondents: 10.

Frequency of Response: Initially, occasionally, and semiannually.

Estimated Total Annual Hour Burden: 4,004.

Estimated Total Annual Cost: $438,560, which includes $331,146 in labor costs, no capital/startup costs and $107,414 in operating and maintenance costs.

(41) NESHAP for Asbestos (40 CFR Part 61, Subpart M), Docket ID Number: EPA-HQ-OECA-2011-0252, EPA ICR Number 0111.13, OMB Control Number 2060-0101, expiration June 30, 2012.

Affected Entities: Entities potentially affected by this action are the owners or operators of demolition and renovation of facilities; the disposal of asbestos waste; asbestos milling, manufacturing and fabricating; the use of asbestos on roadways; asbestos waste conversion facilities; and sprayed-on materials.

Abstract: The affected entities are subject to the General Provisions of the NESHAP at 40 CFR part 60, subpart A, and any changes, or additions to the General Provisions specified at 40 CFR part 61, subpart M.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 2 hours per response.

Respondents/Affected Entities: Owners or operators of demolition and renovation of facilities; the disposal of asbestos waste; asbestos milling, manufacturing and fabricating; the use of asbestos on roadways; asbestos waste conversion facilities; and the use of asbestos insulation and sprayed-on materials.

Estimated Number of Respondents: 9,432.

Frequency of Response: Initially, occasionally, and semiannually.

Estimated Total Annual Hour Burden: 229,381.

Estimated Total Annual Cost: $18,517,636, which includes $18,517,636 in labor costs, no capital/startup costs, and no operating and maintenance costs.

(42) NSPS for Nonmetallic Mineral Processing (40 CFR Part 60, Subpart OOO), Docket ID Number: EPA-HQ-OECA-2011-0253, EPA ICR Number 1084.11, OMB Control Number 2060-0050, expiration June 30, 2012.

Affected Entities: Entities potentially affected by this action are the owners or operators of nonmetallic mineral processing facilities.

Abstract: The affected entities are subject to the General Provisions of the NSPS at 40 CFR part 60, subpart A, and any changes, or additions to the General Provisions specified at 40 CFR part 60, subpart OOO.

Owners or operators of the affected facilities must submit initial notification, performance tests, and periodic reports and results. Owners or operators are also required to maintain records of the occurrence and duration of any startup, shutdown, or malfunction in the operation of an affected facility, or any period during which the monitoring system is inoperative.

Burden Statement: The annual public reporting and recordkeeping burden for this collection of information is estimated to average 2.3 hours per response.

Respondents/Affected Entities: Owners or operators of hot mix asphalt facilities.

Estimated Number of Respondents: 4,365.

Frequency of Response: Initially, and occasionally.

Estimated Total Annual Hour Burden: 11,330.

Estimated Total Annual Cost: $1,185,219, which includes $1,030,642 in labor costs, $154,577 in capital/startup costs and no operating and maintenance costs.

(43) NESHAP for Miscellaneous Metal Parts and Products (40 CFR Part 63, Subpart MMMM), Docket ID Number: EPA-HQ-OECA-2011-0254, EPA ICR Number 2056.04, OMB Control Number 2060-0486, expiration July 31, 2012.

Affected Entities: Entities potentially affected by this action are the owners or operators of miscellaneous metal parts and products facilities.

Abstract: The affected entities are subject to the General Provisions of the NESHAP at 40 CFR part 63, subpart A, and any changes, or additions to the General Provisions specified at 40 CFR part 63, subpart MMMM.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 233 hours per response.

Respondents/Affected Entities: Owners or operators of miscellaneous metal parts and products.

Estimated Number of Respondents: 4,991.

Frequency of Response: Initially, occasionally, and semiannually.

Estimated Total Annual Hour Burden: 2,328,603.

Estimated Total Annual Cost: $212,456,370, which includes $211,456,370 in labor costs, no capital/startup costs and $1,000,000 in operating and maintenance costs.

(44) NESHAP for Flexible Polyurethane Foam Fabrication (40 CFR Part 63, Subpart MMMMM), Docket ID Number: EPA-HQ-OECA-2011-0255, EPA ICR Number 2027.05, OMB Control Number 2060-0516, expiration July 31, 2012.

Affected Entities: Entities potentially affected by this action are the owners or operators of flexible polyurethane foam fabrication facilities.

Abstract: The affected entities are subject to the General Provisions of the NESHAP at 40 CFR part 63, subpart A, and any changes, or additions to the General Provisions specified at 40 CFR part 63, subpart MMMMM.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 90 hours per response.

Respondents/Affected Entities: Owners or operators of flexible polyurethane foam fabrication.

Estimated Number of Respondents: 11.

Frequency of Response: Initially, occasionally, annually, and semiannually.

Estimated Total Annual Hour Burden: 12,303.

Estimated Total Annual Cost: $1,004,834, which includes $1,002,163 in labor costs, $997 in capital/startup costs and $1,674 in operating and maintenance costs.

(45) Emission Guidelines for Existing Other Solid Waste Incineration Units (40 CFR Part 60, Subpart FFFF), Docket ID Number: EPA-HQ-OECA-2011-0256, EPA ICR Number 2164.04, OMB Control Number 2060-0562, expiration July 31, 2012.

Affected Entities: Entities potentially affected by this action are the owners or operators of other existing solid waste incinerators.

Abstract: This supporting statement addresses information collection activities imposed by the Emission Guidelines for Other Solid Waste Incineration (OSWI) Units (40 CFR part 60, subpart FFFF). The emission guidelines address existing OSWI units that commenced construction before proposal of the emission guidelines (December 9, 2004). The emission guidelines do not apply directly to existing OSWI unit owners and operators.

The emission guidelines can be considered a model regulation that a State agency can use in developing plans to implement the emission guidelines. If a State does not develop, adopt, and submit an approvable State plan, the Federal government must develop a plan to implement the emission guidelines. This ICR includes the burden for an affected entity even if it is ultimately regulated under a State or Federal plan.

Burden Statement: The annual public reporting and recordkeeping burden for this collection of information is estimated to average 237 hours per response.

Respondents/Affected Entities: Owners or operators of other existing solid waste incinerators.

Estimated Number of Respondents: 248.

Frequency of Response: Initially, annually, and semiannually.

Estimated Total Annual Hour Burden: 176,576.

Estimated Total Annual Cost: $17,181,351, which includes $15,941,351 in labor costs, no capital/startup costs and $1,240,000 in operating and maintenance costs.

(46) NESHAP for Reinforced Plastic Composites Production (40 CFR Part 63, Subpart WWWW), Docket ID Number: EPA-HQ-OECA-2011-0257, EPA ICR Number 1976.05, OMB Control Number 2060-0509, expiration July 31, 2012.

Affected Entities: Entities potentially affected by this action are the owners or operators of reinforced plastic composites production facilities.

Abstract: The affected entities are subject to the General Provisions of the NESHAP at 40 CFR part 63, subpart A, and any changes, or additions to the General Provisions specified at 40 CFR part 63, subpart WWWW.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 16 hours per response.

Respondents/Affected Entities: Owners or operators of reinforced plastic composites production facilities.

Estimated Number of Respondents: 504.

Frequency of Response: Initially, and semiannually.

Estimated Total Annual Hour Burden: 17,740.

Estimated Total Annual Cost: $1,454,143, which includes $1,432,143 in labor costs, no capital/startup costs and $22,000 in operating and maintenance costs.

(47) NESHAP for Paper and Other Web Coating (40 CFR Part 63, Subpart JJJJ), Docket ID Number: EPA-HQ-OECA-2011-0258, EPA ICR Number 1951.05, OMB Control Number 2060-0511, expiration July 31, 2012.

Affected Entities: Entities potentially affected by this action are the owners or operators of paper and other web coating facilities.

Abstract: The affected entities are subject to the General Provisions of the NESHAP at 40 CFR part 63, subpart A, and any changes, or additions to the General Provisions specified at 40 CFR part 63, subpart JJJJ.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 23 hours per response.

Respondents/Affected Entities: Owners or operators of paper and other coating facilities.

Estimated Number of Respondents: 215.

Frequency of Response: Initially, occasionally, monthly, and semiannually.

Estimated Total Annual Hour Burden: 11,312.

Estimated Total Annual Cost: $1,765,629, which includes $913,229 in labor costs, $233,500 in capital/startup costs and $618,900 in operating and maintenance costs.

(48) NESHAP for the Surface Coating of Large Household and Commercial appliances (40 CFR Part 63, Subpart NNNN), Docket ID Number: EPA-HQ-OECA-2011-0259, EPA ICR Number 1954.05, OMB Control Number 2060-0457, expiration July 31, 2012.

Affected Entities: Entities potentially affected by this action are the owners or operators of the surface coating of large household and commercial appliances facilities.

Abstract: The affected entities are subject to the General Provisions of the NESHAP at 40 CFR part 63, subpart A, and any changes, or additions to the General Provisions specified at 40 CFR part 63, subpart NNNN.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 97 hours per response.

Respondents/Affected Entities: Owners or operators of surface coating of large household and commercial appliances facilities.

Estimated Number of Respondents: 90.

Frequency of Response: Initially, occasionally, and semiannually.

Estimated Total Annual Hour Burden: 28,845.

Estimated Total Annual Cost: $2,498,984, which includes $2,326,984 in labor costs, $64,000 in capital/startup costs and $108,000 in operating and maintenance costs.

(49) NESHAP for Brick and Structural Clay Manufacturing (40 CFR Part 63, Subpart JJJJJ), Docket ID Number: EPA-HQ-OECA-2011-0260, EPA ICR Number 2022.05, OMB Control Number 2060-0508, expiration July 31, 2012.

Affected Entities: Entities potentially affected by this action are the owners or operators of brick and structural clay manufacturing facilities.

Abstract: The affected entities are subject to the General Provisions of the NESHAP at 40 CFR part 63, subpart A, and any changes, or additions to the General Provisions specified at 40 CFR part 63, subpart JJJJJ.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 85 hours per response.

Respondents/Affected Entities: Owners or operators of brick and structural clay manufacturing.

Estimated Number of Respondents: 72.

Frequency of Response: Initially, occasionally, and semiannually.

Estimated Total Annual Hour Burden: 14,086.

Estimated Total Annual Cost: $1,152,404, which includes $1,137,652 in labor costs, $10,000 in capital/startup costs and $4,752 in operating and maintenance costs.

(50) NESHAP for Refractory Products Manufacturing (40 CFR Part 63, Subpart SSSSS), Docket ID Number: EPA-HQ-OECA-2011-0261, EPA ICR Number 2040.05, OMB Control Number 2060-0515, expiration July 31, 2012.

Affected Entities: Entities potentially affected by this action are the owners or operators of refractory products manufacturing plants.

Abstract: The affected entities are subject to the General Provisions of the NESHAP at 40 CFR part 63, subpart A, and any changes, or additions to the General Provisions specified at 40 CFR part 63, subpart SSSSS.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 15 hours per response.

Respondents/Affected Entities: Owners or operators of refractory products manufacturing plants.

Estimated Number of Respondents: 8.

Frequency of Response: Initially, occasionally, and semiannually.

Estimated Total Annual Hour Burden: 338.

Estimated Total Annual Cost: $30,344, which includes $27,304 in labor costs, no capital/startup costs and $3,040 in operating and maintenance costs.

(51) NESHAP for Semiconductor Manufacturing (40 CFR Part 63, Subpart BBBBB), Docket ID Number: EPA-HQ-OECA-2011-0262, EPA ICR Number 2042.05, OMB Control Number 2060-0519, expiration July 31, 2012.

Affected Entities: Entities potentially affected by this action are the owners or operators of semiconductor manufacturing plants.

Abstract: The affected entities are subject to the General Provisions of the NESHAP at 40 CFR part 63, subpart A, and any changes, or additions to the General Provisions specified at 40 CFR part 63, subpart BBBBB.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 18 hours per response.

Respondents/Affected Entities: Owners or operators of semiconductor manufacturing plants.

Estimated Number of Respondents: 1.

Frequency of Response: Initially, occasionally, and semiannually.

Estimated Total Annual Hour Burden: 37.

Estimated Total Annual Cost: $3,167, which includes $3,117 in labor costs, no capital/startup costs and $50 in operating and maintenance costs.

(52) NESHAP for Printing, Coating and Dyeing of Fabrics and Other Textiles (40 CFR Part 63, Subpart OOOO), Docket ID Number: EPA-HQ-OECA-2011-0263, EPA ICR Number 2071.05, OMB Control Number 2060-0522, expiration August 31, 2012.

Affected Entities: Entities potentially affected by this action are the owners or operators of printing, coating and dyeing of fabrics and other textiles.

Abstract: The affected entities are subject to the General Provisions of the NESHAP at 40 CFR part 63, subpart A, and any changes, or additions to the General Provisions specified at 40 CFR part 63, subpart OOOO.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 69 hours per response.

Respondents/Affected Entities: Owners or operators of printing, coating and dyeing of fabrics and other textiles.

Estimated Number of Respondents: 140.

Frequency of Response: Initially, occasionally, and semiannually.

Estimated Total Annual Hour Burden: 20,821.

Estimated Total Annual Cost: $1,687,784, which includes $1,680,832, in labor costs, $2,953 in capital/startup costs and $3,640 in operating and maintenance costs.

(53) NSPS for Secondary Source Compression Ignition Internal Combustion Engines (40 CFR Part 63, Subpart IIII), Docket ID Number: EPA-HQ-OECA-2011-0264, EPA ICR Number 2096.04, OMB Control Number 2060-0590, expiration August 31, 2012.

Affected Entities: Entities potentially affected by this action are the owners or operators of stationary source compression ignition internal combustion engines.

Abstract: The affected entities are subject to the General Provisions of the NSPS at 40 CFR part 60, subpart A, and any changes, or additions to the General Provisions specified at 40 CFR part 60, subpart IIII.

Owners or operators of the affected facilities must submit initial notification, performance tests, and periodic reports and results. Owners or operators are also required to maintain records of the occurrence and duration of any startup, shutdown, or malfunction in the operation of an affected facility, or any period during which the monitoring system is inoperative.

Burden Statement: The annual public reporting and recordkeeping burden for this collection of information is estimated to average 1 hour per response.

Respondents/Affected Entities: Owners or operators of stationary source compression ignition internal combustion engines.

Estimated Number of Respondents: 206,290.

Frequency of Response: Initially, and annually.

Estimated Total Annual Hour Burden: 192,197.

Estimated Total Annual Cost: $19,015,209, which includes $18,773,209 in labor costs, no capital/startup costs and $242,000 in operating and maintenance costs.

(54) NESHAP for Municipal Solid Waste Landfills (40 CFR Part 63, Subpart AAAA), Docket ID Number: EPA-HQ-OECA-2011-0265, EPA ICR Number 1938.05, OMB Control Number 2060-0505, expiration August 31, 2012.

Affected Entities: Entities potentially affected by this action are the owners or operators of municipal solid waste (MSW) landfills.

Abstract: The affected entities are subject to the General Provisions of the NESHAP at 40 CFR part 63, subpart A, and any changes, or additions to the General Provisions specified at 40 CFR part 63, subpart AAAA.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 5 hours per response.

Respondents/Affected Entities: Owners or operators of municipal solid waste landfills.

Estimated Number of Respondents: 1,121.

Frequency of Response: Occasionally, annually, and semiannually.

Estimated Total Annual Hour Burden: 18,234.

Estimated Total Annual Cost: $1,489,039, which includes $1,472,039 in labor costs, no capital/startup costs and $17,000 in operating and maintenance costs.

(55) NESHAP for Publicly Owned Treatment Works (40 CFR Part 63, Subpart VVV), Docket ID Number: EPA-HQ-OECA-2011-0266, EPA ICR Number 1891.06, OMB Control Number 2060-0428, expiration August 31, 2012.

Affected Entities: Entities potentially affected by this action are the owners or operators of publicly owned treatment works.

Abstract: The affected entities are subject to the General Provisions of the NESHAP at 40 CFR part 63, subpart A, and any changes, or additions to the General Provisions specified at 40 CFR part 63, subpart VVV.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 1 hour per response.

Respondents/Affected Entities: Owners or operators of publicly owned treatment works.

Estimated Number of Respondents: 6.

Frequency of Response: Initially, occasionally, annually, and semiannually.

Estimated Total Annual Hour Burden: 14.

Estimated Total Annual Cost: $1,114, which includes $1,114 in labor costs, no capital/startup costs and no operating and maintenance costs.

(56) NESHAP for Asphalt Processing and Asphalt Roofing Manufacturing (40 CFR Part 63, Subpart LLLLL), Docket ID Number: EPA-HQ-OECA-2011-0267, EPA ICR Number 2029.05, OMB Control Number 2060-0520, expiration August 31, 2012.

Affected Entities: Entities potentially affected by this action are the owners or operators of asphalt processing and asphalt roofing manufacturing facilities.

Abstract: The affected entities are subject to the General Provisions of the NESHAP at 40 CFR part 63, subpart A, and any changes, or additions to the General Provisions specified at 40 CFR part 63, subpart LLLLL.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 223 hours per response.

Respondents/Affected Entities: Owners or operators of asphalt processing and asphalt roofing manufacturing facilities.

Estimated Number of Respondents: 24.

Frequency of Response: Initially, occasionally, and semiannually.

Estimated Total Annual Hour Burden: 12,017.

Estimated Total Annual Cost: $1,041,641, which includes $1,016,234 in labor costs, no capital/startup costs and $25,407 in operating and maintenance costs.

(57) NESHAP for Benzene Waste Operations (40 CFR Part 61, Subpart FF), Docket ID Number: EPA-HQ-OECA-2011-0268, EPA ICR Number 1541.10, OMB Control Number 2060-0183, expiration August 31, 2012.

Affected Entities: Entities potentially affected by this action are the owners or operators of benzene waste operations.

Abstract: The affected entities are subject to the General Provisions of the NESHAP at 40 CFR part 61, subpart A, and any changes, or additions to the General Provisions specified at 40 CFR part 61, subpart FF.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 71 hours per response.

Respondents/Affected Entities: Owners or operators of benzene waste operations.

Estimated Number of Respondents: 270

Frequency of Response: Initially, occasionally, quarterly, and semiannually.

Estimated Total Annual Hour Burden: 19,148.

Estimated Total Annual Cost: $1,738,751, which includes $1,738,751 in labor costs, no capital/startup costs and no operating and maintenance costs.

(58) NESHAP for Coke Oven: Pushing, Quenching, and Battery Stacks (40 CFR Part 63, Subpart CCCCC), Docket ID Number: EPA-HQ-OECA-2011-0269, EPA ICR Number 1995.05, OMB Control Number 2060-0521, expiration August 31, 2012.

Affected Entities: Entities potentially affected by this action are the owners or operators of coke oven: Pushing, quenching, and battery stacks.

Abstract: The affected entities are subject to the General Provisions of the NESHAP at 40 CFR part 63, subpart A, and any changes, or additions to the General Provisions specified at 40 CFR part 63, subpart CCCCC.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 229 hours per response.

Respondents/Affected Entities: Owners or operators of coke oven: pushing, quenching, and battery stacks.

Estimated Number of Respondents: 19.

Frequency of Response: Initially, occasionally, weekly, quarterly, and semiannually.

Estimated Total Annual Hour Burden: 25,879.

Estimated Total Annual Cost: $2,361,375, which includes $2,191,875 in labor costs, no capital/startup costs and $169,500 in operating and maintenance costs.

(59) NSPS for Petroleum Dry Cleaners (40 CFR Part 63, Subpart JJJ), Docket ID Number: EPA-HQ-OECA-2011-0270, EPA ICR Number 0997.10, OMB Control Number 2060-0079, expiration August 31, 2012.

Affected Entities: Entities potentially affected by this action are the owners or operators of petroleum dry cleaners.

Abstract: The affected entities are subject to the General Provisions of the NSPS at 40 CFR part 60, subpart A, and any changes, or additions to the General Provisions specified at 40 CFR part 60, subpart JJJ.

Owners or operators of the affected facilities must submit initial notification, performance tests, and periodic reports and results. Owners or operators are also required to maintain records of the occurrence and duration of any startup, shutdown, or malfunction in the operation of an affected facility, or any period during which the monitoring system is inoperative.

Burden Statement: The annual public reporting and recordkeeping burden for this collection of information is estimated to average 22 hours per response.

Respondents/Affected Entities: Owners or operators of petroleum dry cleaners

Estimated Number of Respondents: 18.

Frequency of Response: Initially.

Estimated Total Annual Hour Burden: 1,664.

Estimated Total Annual Cost: $134,355, which includes $134,163 in labor costs, $997 in capital/startup costs and $1,674 in operating and maintenance costs.

(60) NESHAP for Integrated Iron and Steel Manufacturing (40 CFR Part 63, Subpart FFFFF), Docket ID Number: EPA-HQ-OECA-2011-0271, EPA ICR Number 2003.05, OMB Control Number 2060-0517, expiration August 31, 2012.

Affected Entities: Entities potentially affected by this action are the owners or operators of integrated iron and steel manufacturing facilities.

Abstract: The affected entities are subject to the General Provisions of the NESHAP at 40 CFR part 63, subpart A, and any changes, or additions to the General Provisions specified at 40 CFR part 63, subpart FFFFF.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 419 hours per response.

Respondents/Affected Entities: Owners or operators of integrated iron and steel manufacturing facilities.

Estimated Number of Respondents: 18.

Frequency of Response: Initially, occasionally, and semiannually.

Estimated Total Annual Hour Burden: 18,421.

Estimated Total Annual Cost: $1,627,196, which includes $1,560,196 in labor costs, no capital/startup costs and $67,000 in operating and maintenance costs.

(61) State and Federal Emission Guidelines for Hospital/Medical/Infectious Waste Incinerators (40 CFR Part 60, Subpart Ce and 40 CFR Part 62, Subpart HHH), Docket ID Number: EPA-HQ-OECA-2011-0272, EPA ICR Number 1899.07, OMB Control Number 2060-0422, expiration September 30, 2012.

Affected Entities: Entities potentially affected by this action are the owners or operators of hospital/medical/infectious waste incinerators.

Abstract: The State and Federal Emissions Guidelines for hospital medical/infectious waste incinerators, 40 CFR part 60, subpart Ce, and 40 CFR part 62, subpart HHH.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 502 hours per response.

Respondents/Affected Entities: Owners or operators of hospital/medical/or infectious waste incinerators.

Estimated Number of Respondents: 57.

Frequency of Response: Initially, occasionally, annually, and semiannually.

Estimated Total Annual Hour Burden: 113,296.

Estimated Total Annual Cost: $9,628,648, which includes $7,447,273 in labor costs, $1,410,168 in capital/startup costs and $771,207 in operating and maintenance costs.

(62) NESHAP for Shipbuilding and Ship Repair Facilities—Surface Coating (40 CFR Part 63, Subpart II), Docket ID Number: EPA-HQ-OECA-2011-0273, EPA ICR Number 1712.07, OMB Control Number 2060-0330, expiration September 30, 2012.

Affected Entities: Entities potentially affected by this action are the owners or operators of shipbuilding and ship repair facilities.

Abstract: The affected entities are subject to the General Provisions of the NESHAP at 40 CFR part 63, subpart A, and any changes, or additions to the General Provisions specified at 40 CFR part 63, subpart II.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 255 hours per response.

Respondents/Affected Entities: Owners or operators of shipbuilding and ship repair facilities.

Estimated Number of Respondents: 56.

Frequency of Response: Initially, occasionally, and semiannually.

Estimated Total Annual Hour Burden: 28,594.

Estimated Total Annual Cost: $1,740,381, which includes $1,740,381 in labor costs, no capital/startup costs and no operating and maintenance costs.

(63) NESHAP for the Wood Building products Surface Coating Industry (40 CFR Part 63, Subpart QQQQ), Docket ID Number: EPA-HQ-OECA-2011-0274, EPA ICR Number 2034.05, OMB Control Number 2060-0510, expiration September 30, 2012.

Affected Entities: Entities potentially affected by this action are the owners or operators of wood building products surface coating facilities.

Abstract: The affected entities are subject to the General Provisions of the NESHAP at 40 CFR part 63, subpart A, and any changes, or additions to the General Provisions specified at 40 CFR part 63, subpart QQQQ.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 109 hours per response.

Respondents/Affected Entities: Owners or operators of wood building products surface coating facilities.

Estimated Number of Respondents: 232.

Frequency of Response: Initially, occasionally, and semiannually.

Estimated Total Annual Hour Burden: 75,771.

Estimated Total Annual Cost: $6,695,925, which includes $6,417,525 in labor costs, no capital/startup costs and $278,400 in operating and maintenance costs.

(64) NESHAP for Hydrochloric Acid Production (40 CFR Part 63, Subpart NNNNN), Docket ID Number: EPA-HQ-OECA-2011-0275, EPA ICR Number 2032.07, OMB Control Number 2060-0529, expiration September 30, 2012.

Affected Entities: Entities potentially affected by this action are the owners or operators of hydrochloric acid production facilities.

Abstract: The affected entities are subject to the General Provisions of the NESHAP at 40 CFR part 63, subpart A, and any changes, or additions to the General Provisions specified at 40 CFR part 63, subpart NNNNN.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 451 hours per response.

Respondents/Affected Entities: Owners or operators of hydrochloric acid production facilities.

Estimated Number of Respondents: 75.

Frequency of Response: Initially, occasionally, and semiannually.

Estimated Total Annual Hour Burden: 94,104.

Estimated Total Annual Cost: $8,647,612, which includes $7,959,759 in labor costs, $53,500 in capital/startup costs and $634,353 in operating and maintenance costs.

EPA will consider any comments received and may amend any of the above ICRs, as appropriate. Then, the final ICR packages will be submitted to OMB for review and approval pursuant to 5 CFR 1320.12. At that time, EPA will issue one or more Federal Register notices pursuant to 5 CFR 1320.5(a)(1)(iv) to announce the submission of the ICRs to OMB and the opportunity to submit additional comments to OMB. If you have any questions about any of the above ICRs or the approval process, please contact the person listed under FOR FURTHER INFORMATION CONTACT.

Dated: April 21, 2011.
Lisa C. Lund,
Director, Office of Compliance.

[FR Doc. 2011-11017 Filed 5-6-11; 8:45 am]

BILLING CODE 6560-50-P